DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Spring 2013 Semiannual Agenda of Regulations

AGENCY: Office of the Secretary, Commerce.

ACTION: Semiannual regulatory agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to prerulemaking, proposed rules, final rules, long-term actions, and rulemaking actions completed since the 2012 agenda. The purpose of the agenda is to provide information to the public on regulations that are currently under review, being proposed, or issued by Commerce. The agenda is intended to facilitate comments and views by interested members of the public.

Commerce's spring 2013 regulatory agenda includes regulatory activities that are expected to be conducted during the period April 1, 2013, through March 31, 2014.

FOR FURTHER INFORMATION CONTACT:

Specific: For additional information about specific regulatory actions listed in the agenda, contact the individual identified as the contact person.

General: Comments or inquiries of a general nature about the agenda should be directed to Asha Mathew, Chief Counsel for Regulation, Office of the Assistant General Counsel for Legislation and Regulation, U.S. Department of Commerce, Washington, DC 20230, telephone: 202-482-3151.

SUPPLEMENTARY INFORMATION: Commerce hereby publishes its spring 2013 Unified Agenda of Federal Regulatory and Deregulatory Actions pursuant to Executive Order 12866 and the Regulatory Flexibility Act, 5 U.S.C. 601 et seq. Executive Order 12866 requires agencies to publish an agenda of those regulations that are under consideration pursuant to this order. By memorandum of March 28, 2013, the Office of Management and Budget issued guidelines and procedures for the preparation and publication of the spring 2013 Unified Agenda. The Regulatory Flexibility Act requires agencies to publish, in the spring and fall of each year, a regulatory flexibility agenda that contains a brief description of the subject of any rule likely to have a significant economic impact on a substantial number of small entities, and a list that identifies those entries that have been selected for periodic review under section 610 of the Regulatory Flexibility Act.

In this edition of Commerce's regulatory agenda, a list of the most important significant regulatory actions and a Statement of Regulatory Priorities are included in the Regulatory Plan, which appears in both the online Unified Agenda and in part II of the issue of the Federal Register that includes the Unified Agenda.

In addition, beginning with the fall 2007 edition, the Internet became the basic means for disseminating the Unified Agenda. The complete Unified Agenda is available online at www.reginfo.gov, in a format that offers users a greatly enhanced ability to obtain information from the Agenda database.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the Internet. In addition, for fall editions of the Agenda, Commerce's entire Regulatory Plan will continue to be printed in the Federal Register.

Within Commerce, the Office of the Secretary and various operating units may issue regulations. These operating units, the National Oceanic and Atmospheric Administration (NOAA), the Bureau of Industry and Security, and the Patent and Trademark Office, issue the greatest share of Commerce's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. Fishery Management Plans (FMPs) are to be prepared for fisheries that require conservation and management measures. Regulations implementing these FMPs regulate domestic fishing and foreign fishing where permitted. Foreign fishing may be conducted in a fishery in which there is no FMP only if a preliminary fishery management plan has been issued to govern that foreign fishing. Under the Act, eight Regional Fishery Management Councils (Councils) prepare FMPs or amendments to FMPs for fisheries within their respective areas. In the development of such plans or amendments and their implementing regulations, the Councils are required by law to conduct public hearings on the draft plans and to consider the use of alternative means of regulating.

The Council process for developing FMPs and amendments makes it difficult for NMFS to determine the significance and timing of some regulatory actions under consideration by the Councils at the time the semiannual regulatory agenda is published.

Commerce's spring 2013 regulatory agenda follows.

Cameron F. Kerry,
General Counsel.

International Trade Administration—Final Rule Stage
Sequence No. | Title | Regulation Identifier No.
40 | Modification of Regulation Regarding the Extension of Time Limits | 0625-AA94

International Trade Administration—Completed Actions
Sequence No. | Title | Regulation Identifier No.
41 | Commercial Availability of Fabric and Yarn | 0625-AA59
42 | Modification of Regulations Regarding the Definition of Factual Information and Time Limits for Submission of Factual Information | 0625-AA91

National Oceanic and Atmospheric Administration—Proposed Rule Stage
Sequence No. | Title | Regulation Identifier No.
43 | Fishery Management Plan for Regulating Offshore Marine Aquaculture in the Gulf of Mexico | 0648-AS65
44 | American Lobster Fishery; Fishing Effort Control Measures to Complement Interstate Lobster Management Recommendations by the Atlantic States Marine Fisheries Commission | 0648-AT31
45 | Amendment 14 to the Atlantic Mackerel, Squid, and Butterfish Fishery Management Plan | 0648-AY26
46 | Amendment 5 to the Atlantic Herring Fishery Management Plan | 0648-AY47
47 | Amendment 6 to the Monkfish Fishery Management Plan | 0648-BA50
48 | Implement the 2010 Shark Conservation Act Provisions and Other Regulations in the Atlantic Smoothhound Shark Fishery | 0648-BB02
49 | Amendment 89 to the Gulf of Alaska Groundfish Fishery Management Plan Area Closures for Chionoecetes bairdi Crab Protection in Gulf of Alaska Groundfish Fisheries | 0648-BB76
50 | Generic Amendment to Several Fishery Management Plans in the Gulf of Mexico and South Atlantic Regions to Modify Federally-Permitted Seafood Dealer Reporting Requirements | 0648-BC12
51 | Amendment 43 to the FMP for BSAI King and Tanner Crabs and Amendment 103 to the FMP for Groundfish of the BSAI | 0648-BC34
52 | Amendment 95 to the Fishery Management Plan for Groundfish of the Gulf of Alaska | 0648-BC39
53 | Framework Action to Set the Annual Catch Limit for Vermilion and Yellowtail Snapper, and Modify the Bag Limit for Vermilion Snapper | 0648-BC51
54 | Regulatory Amendment 15 to the Fishery Management Plan for the Snapper-Grouper Fishery of the South Atlantic Region (Section 610 Review) | 0648-BC60
55 | Amendment 28 to the Fishery Management Plan for the Snapper Grouper Fishery of the South Atlantic Region | 0648-BC63
56 | Amendment 3 to the Spiny Dogfish Fishery Management Plan | 0648-BC77
57 | Amendment 30 to the Fishery Management Plan for the Snapper-Grouper Fishery of the South Atlantic Region | 0648-BC99
58 | Allowing Northeast Multispecies Sector Vessels Access to Year Round Closed Areas | 0648-BD09
59 | Amendment 2 to the Fishery Management Plan for the Queen Conch Resources of Puerto Rico and the USVI: Compatibility of Trip and Bag Limits in the Management Area of St. Croix, USVI | 0648-BD15
60 | Amendment 5b to the Highly Migratory Species Fishery Management Plan | 0648-BD22
61 | Marine Mammal Protection Act Permit Regulation Revisions | 0648-AV82
62 | Amendment and Updates to the Bottlenose Dolphin Take Reduction Plan | 0648-BB37
63 | Designation of Critical Habitat for the Distinct Population Segments of Yelloweye Rockfish, Canary Rockfish, and Bocaccio | 0648-BC76
64 | Amending the Atlantic Large Whale Take Reduction Plan | 0648-BC90

National Oceanic and Atmospheric Administration—Final Rule Stage
Sequence No. | Title | Regulation Identifier No.
65 | Addendum IV to the Weakfish Interstate Management Plan—Bycatch Trip Limit | 0648-AY41
66 | Fisheries off West Coast States; Pacific Coast Groundfish Fishery; Trawl Rationalization Program; Cost Recovery Program | 0648-BB17
67 | Amendment 18B to the Snapper Grouper Fishery Management Plan of the South Atlantic Region | 0648-BB58
68 | Amendment to the Vessel Ownership Requirements of the Individual Fishing Quota Program for Fixed-Gear Pacific halibut and Sablefish Fisheries in and off of Alaska | 0648-BB78
69 | Pacific Coast Groundfish Trawl Rationalization Program Reconsideration of Allocation of Whiting (Raw 2) | 0648-BC01
70 | Amendment 4 to the Fishery Management Plan for the Reef Fish Fishery of Puerto Rico and the U.S. Virgin Islands: Parrotfish Size Limits | 0648-BC20
71 | Amendment 42 to the Fishery Management Plan for Bering Sea/Aleutian Islands King and Tanner Crabs | 0648-BC25
72 | Framework Adjustment 48 to the Northeast Multispecies Fishery Management Plan | 0648-BC27
73 | Georges Bank Yellowtail Flounder Emergency Action to Provide a Partial Exemption from Accountability Measures to the Atlantic Scallop Fishery | 0648-BC33
74 | Management Measures for Pacific Bluefin Tuna in the Eastern Pacific Ocean | 0648-BC44
75 | Regulatory Amendment to Implement an Exempted Fishery for the Spiny Dogfish Fishery off Cape Cod, MA | 0648-BC50
76 | Amendment 9 to the Fishery Management Plan for the Shrimp Fishery of the South Atlantic Region | 0648-BC58
77 | Framework Action to Set the 2013 Gag Recreational Fishing Season and Bag Limit and Modify the February-March Shallow-Water Grouper Closed Season | 0648-BC64
78 | Pacific Halibut Fisheries; Catch Sharing Plan | 0648-BC75
79 | 2013-2015 Spiny Dogfish Fishery Specifications | 0648-BC85
80 | International Fisheries; Western and Central Pacific Fisheries for Highly Migratory Species; Fishing Restrictions in Purse Seine Fisheries for 2013 and 2014 | 0648-BC87
81 | Emergency Rule to Establish Recreational Closure Authority Specific to Federal Waters off Individual States for the Red Snapper Component of the Reef Fish Fishery | 0648-BD00
82 | Revision of Hawaiian Monk Seal Critical Habitat | 0648-BA81
83 | Eliminate the Expiration Date Contained in the Final Rule to Reduce the Threat of Ship Collisions with North Atlantic Right Whales | 0648-BB20
84 | Endangered and Threatened Species: Designation of Critical Habitat for Threatened Lower Columbia River Coho Salmon and Puget Sound Steelhead | 0648-BB30
85 | Framework Adjustment 24 to the Atlantic Sea Scallop FMP and Framework Adjustment 49 to the Northeast Multispecies FMP | 0648-BC81

National Oceanic and Atmospheric Administration—Long-Term Actions
Sequence No. | Title | Regulation Identifier No.
86 | Magnuson-Stevens Fishery Conservation and Management Reauthorization Act (MSRA) Environmental Review Procedure | 0648-AV53
87 | Marine Mammal Protection Act Stranding Regulation Revisions | 0648-AW22
88 | Amendment 22 to the Fishery Management Plan for the Snapper Grouper Fishery of the South Atlantic Region | 0648-BA53

National Oceanic and Atmospheric Administration—Completed Actions
Sequence No. | Title | Regulation Identifier No.
89 | Amendment 3 to the Spiny Dogfish Fishery Management Plan | 0648-AY12
90 | Fisheries in the Western Pacific; Pelagic Fisheries; Purse Seine Fishing with Fish Aggregation Devices | 0648-AY36
91 | Amendment to Recover the Administrative Costs of Processing Permit Applications | 0648-AY81
92 | Amendment 21 to the Snapper-Grouper Fishery Management Plan of the South Atlantic Region | 0648-BA59
93 | Amendment 6 to the Golden Crab Fishery Management Plan of the South Atlantic | 0648-BA60
94 | Atlantic Highly Migratory Species; Vessel Monitoring Systems | 0648-BA64
95 | Atlantic Highly Migratory Species Electronic Dealer Reporting Requirements | 0648-BA75
96 | To Establish a Voluntary Fishing Capacity Reduction Program in the Longline Catcher Processor Subsector of the Bering Sea and Aleutian Islands Management Area Non-Pollock Groundfish Fishery | 0648-BB06
97 | Framework Adjustment 47 to the Northeast Multispecies Fishery Management Plan | 0648-BB62
98 | Gulf of Mexico Reef Fish Amendment 34: Commercial Reef Fish Permit Requirements and Crew Size on Dual-Permitted Vessels | 0648-BB72
99 | 2012 Gulf of Mexico Gray Triggerfish Annual Catch Limits and Annual Catch Targets for the Commercial and Recreational Sectors; and In-Season Accountability Measures for the Recreational Sector | 0648-BB90
100 | Amendment 35 to the Reef Fish Fishery Management Plan Addressing Changes to the Greater Amberjack Rebuilding Plan and Adjustments to the Stock Annual Catch Limit in the Gulf of Mexico | 0648-BB97
101 | Framework Adjustment 6 to the Atlantic Mackerel, Squid and Butterfish Fishery Management Plan | 0648-BB99
102 | Regulatory Amendment 12 to the Fishery Management Plan for the Snapper Grouper Fishery in the South Atlantic | 0648-BC03
103 | Framework Adjustment 5 to the Atlantic Mackerel, Squid, and Butterfish Fishery Management Plan | 0648-BC08
104 | Development of Island-Specific Fishery Management Plans (FMPs) in the Caribbean: Transition from Species-Specific FMPs to Island-Specific FMPs | 0648-BC17
105 | Comprehensive Ecosystem Based Amendment 3 | 0648-BC22
106 | Fisheries Off West Coast States; West Coast Salmon Fisheries; Amendment 17 | 0648-BC28
107 | Amendment 38 to the Fishery Management Plan for Reef Fish Resources in the Gulf of Mexico | 0648-BC37
108 | Amendment 4 to the U.S. Caribbean Coral FMP: Seagrass Management | 0648-BC38
109 | 2013 Atlantic Mackerel, Squid, and Butterfish Fishery Specifications and Management Measures | 0648-BC40
110 | Generic Amendment 4 to Fishery Management Plans in the Gulf of Mexico: Fixed Petroleum Platforms and Artificial Reefs as Essential Fish Habitat | 0648-BC47
111 | Interim Final Rule for 2012 Butterfish Specifications | 0648-BC57
112 | Emergency Rule for a Temporary Action to Adjust the Commercial ACL for Yellowtail Snapper in the South Atlantic Snapper-Grouper Fishery | 0648-BC59
113 | Emergency Rule to set the 2012 Annual Catch Limit for the Gulf of Mexico Vermilion Snapper Stock | 0648-BC65
114 | Reduce Sea Turtle Bycatch in Atlantic Trawl Fisheries | 0648-AY61
115 | False Killer Whale Take Reduction Plan | 0648-BA30
116 | Mandatory Use of Turtle Excluder Devices (TEDs) in Skimmer Trawls, Pusher-Head Trawls, and Wing Nets (Butterfly Trawls) | 0648-BC10

Patent and Trademark Office—Completed Actions
Sequence No. | Title | Regulation Identifier No.
117 | Setting and Adjusting Patent Fees | 0651-AC54

DEPARTMENT OF COMMERCE (DOC)

International Trade Administration (ITA)

Final Rule Stage

40. • Modification of Regulation Regarding the Extension of Time Limits

Legal Authority: 5 U.S.C. 301; 19 U.S.C. 1202 note; 19 U.S.C. 1303 note; 19 U.S.C. et seq.; 19 U.S.C. 3538

Abstract: Requesting comment on a proposed modification to 19 CFR 351.302, which concerns the extension of time limits for submissions in antidumping and countervailing duty proceedings.

Timetable:

Action | Date | FR Cite
Proposed Rule | 01/16/13 | 78 FR 3367
Final Action | 07/00/13 |

Regulatory Flexibility Analysis Required: Yes.

Agency Contact: Charles Vannatta, Policy Analyst, Department of Commerce, International Trade Administration, 1401 Constitution Ave. NW., Washington, DC 20230, Phone: 202 482-4036, Email: charles.vannatta@trade.gov.

RIN: 0625-AA94

DEPARTMENT OF COMMERCE (DOC)

International Trade Administration (ITA)

Completed Actions

41. Commercial Availability of Fabric and Yarn

Legal Authority: EO 13191; Pub. L. 106-200, sec 112(b)(5)(B); Pub. L. 106-200, sec 211; Pub. L. 107-210, sec 3103

Abstract: This rule implements certain provisions of the Trade and Development Act of 2000 (the Act). Title I of the Act (the African Growth and Opportunity Act or AGOA), title II of the Act (the United States-Caribbean Basin Trade Partnership Act or CBTPA), and title XXXI of the Trade Act of 2002 (the Andean Trade Promotion and Drug Eradication Act or ATPDEA) provide for quota- and duty-free treatment for qualifying apparel products from designated beneficiary countries. AGOA and CBTPA authorize quota- and duty-free treatment for apparel articles that are both cut (or knit-to-shape) and sewn or otherwise assembled in one or more designated beneficiary countries from yarn or fabric that is not formed in the United States or a beneficiary country, provided it has been determined that such yarn or fabric cannot be supplied by the domestic industry in commercial quantities in a timely manner. The President has delegated to the Committee for the Implementation of Textile Agreements (the Committee), which is chaired by the Department of Commerce, the authority to determine whether yarn or fabric cannot be supplied by the domestic industry in commercial quantities in a timely manner under the AGOA, the ATPDEA, and the CBTPA, and has authorized the Committee to extend quota- and duty-free treatment to apparel of such yarn or fabric. The rule provides the procedure for interested parties to submit a request alleging that a yarn or fabric cannot be supplied by the domestic industry in commercial quantities in a timely manner, the procedure for public comments, and relevant factors that will be considered in the Committee's determination. The rule also outlines the factors to be considered by the Committee in extending quota- and duty-free treatment.

Timetable:

Action | Date | FR Cite
Withdrawn | 04/17/13 |

Regulatory Flexibility Analysis Required: Yes.

Agency Contact: Janet Heinzen, International Trade Specialist, Department of Commerce, International Trade Administration, Office of Textiles and Apparel, 1401 Constitution Avenue NW., Washington, DC 20230, Phone: 202 482-4006, Email: janet_heinzen@ita.doc.gov.

RIN: 0625-AA59

42. Modification of Regulations Regarding the Definition of Factual Information and Time Limits for Submission of Factual Information

Legal Authority: 19 U.S.C. 1202 note; 19 U.S.C. 1303 note; 19 U.S.C. 1671 et seq.; 19 U.S.C. 3538; 5 U.S.C. 301

Abstract: This rule will modify the definition of factual information for the purposes of antidumping and countervailing duty proceedings, and it will also modify the time limits for submission of factual information in such proceedings.

Timetable:

Action | Date | FR Cite
NPRM | 07/10/12 | 77 FR 40534
NPRM Comment Period Extended | 08/23/12 | 77 FR 50963
Final Action | 04/10/13 | 78 FR 21246

Regulatory Flexibility Analysis Required: Yes.

Agency Contact: Charles Vannatta, Policy Analyst, Department of Commerce, International Trade Administration, 1401 Constitution Ave. NW., Washington, DC 20230, Phone: 202 482-4036, Email: charles.vannatta@trade.gov.

RIN: 0625-AA91

DEPARTMENT OF COMMERCE (DOC)

National Oceanic and Atmospheric Administration (NOAA)

Proposed Rule Stage

National Marine Fisheries Service

43. Fishery Management Plan for Regulating Offshore Marine Aquaculture in the Gulf of Mexico

Legal Authority: 16 U.S.C. 1801 et seq.

Abstract: The purpose of this fishery management plan is to develop a regional permitting process for regulating and promoting environmentally sound and economically sustainable aquaculture in the Gulf of Mexico exclusive economic zone. This fishery management plan consists of ten actions, each with an associated range of management alternatives, which would facilitate the permitting of an estimated 5 to 20 offshore aquaculture operations in the Gulf of Mexico over the next 10 years, with an estimated annual production of up to 64 million pounds. By establishing a regional permitting process for aquaculture, the Gulf of Mexico Fishery Management Council will be positioned to achieve their primary goal of increasing maximum sustainable yield and optimum yield of federal fisheries in the Gulf of Mexico by supplementing harvest of wild caught species with cultured product. This rulemaking would outline a regulatory permitting process for aquaculture in the Gulf of Mexico, including: (1) Required permits; (2) duration of permits; (3) species allowed; (4) designation of sites for aquaculture; (5) reporting requirements; and (6) regulations to aid in enforcement.

Timetable:

Action | Date | FR Cite
Notice of Availability | 06/04/09 | 74 FR 26829
NOA comment period end | 08/03/09 |
NPRM | 10/00/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-AS65

44. American Lobster Fishery; Fishing Effort Control Measures To Complement Interstate Lobster Management Recommendations by the Atlantic States Marine Fisheries Commission

Legal Authority: 16 U.S.C. 5101 et seq.

Abstract: The action would limit future access in the Lobster Conservation Management Area (Area) 2 and Outer Cape Area lobster trap fishery based on historic participation criteria, and implement a transferable trap program in Area 2, Area 3, and the Outer Cape Area as recommended by the Atlantic States Marine Fisheries Commission. NMFS proposes to use the same historic participation data and qualification criteria used by state agencies to qualify state lobstermen fishing in the State waters of the subject management areas.

Timetable:

Action | Date | FR Cite
ANPRM | 05/10/05 | 70 FR 24495
ANPRM Comment Period End | 06/09/05 |
Notice of Public Meeting | 05/03/10 | 75 FR 23245
NPRM | 07/00/13 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-AT31

45. Amendment 14 to the Atlantic Mackerel, Squid, and Butterfish Fishery Management Plan

Legal Authority: 16 U.S.C. 1801 et seq.

Abstract: The purpose of Amendment 14 is primarily to minimize river herring and shad bycatch in the Atlantic mackerel fishery and implement an effective program for monitoring river herring and shad bycatch in the Mackerel, Squid and Butterfish fisheries. This action proposes measures to expand reporting requirements for permit holders; increase at-sea observer coverage; and establish a mortality cap on river herring and shad in the mackerel fishery. This action is being taken because there is concern about the status of river herring and shad stocks throughout their range, and a push to reduce all sources of stock mortality, including fishing mortality.

Timetable:

Action | Date | FR Cite
Notice of Intent | 06/09/10 | 75 FR 32745
NPRM | 07/00/13 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-AY26

46. Amendment 5 to the Atlantic Herring Fishery Management Plan

Legal Authority: 16 U.S.C. 1801

Abstract: The purpose of Amendment 5 is to minimize bycatch in the Atlantic herring fishery and improve the collection of real time catch data. Amendment 5 would increase observer coverage, improve at-sea sampling, include measures to reduce net slippage, and include measures to address bycatch. This action is being taken to more accurately characterize Atlantic herring landings, minimize and monitor bycatch of river herring in the Atlantic herring fishery, and to improve monitoring of Atlantic herring fishing activity in groundfish closed areas.

Timetable:

Action | Date | FR Cite
Supplemental Notice of Intent | 12/28/09 | 74 FR 68576
NPRM | 07/00/13 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-AY47

47. Amendment 6 to the Monkfish Fishery Management Plan

Legal Authority: 16 U.S.C. 1801 et seq.

Abstract: The purpose of Amendment 6 to the Monkfish FMP is to consider developing a catch share management program for this fishery. This would very likely also involve the development of a referendum for such a program, as required under the Magnuson-Stevens Fishery Conservation and Management Act.

Timetable:

Action | Date | FR Cite
Notice of Intent to Prepare an EIS | 11/30/10 | 75 FR 74005
NPRM | 01/00/14 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BA50

48. Implement the 2010 Shark Conservation Act Provisions and Other Regulations in the Atlantic Smoothhound Shark Fishery

Legal Authority: 16 U.S.C. 1801 et seq.

Abstract: This proposed rule considers implementing the provisions of the 2010 Shark Conservation Act and other regulations in the Atlantic Smoothhound Fishery (which includes smooth dogfish and the Florida smoothhound). Specifically, this action would: (1) Modify regulations for smooth dogfish as needed to be consistent with the Shark Conservation Act; (2) consider other management measures, as needed, including the Terms and Conditions of the Endangered Species Act Smoothhound Biological Opinion; and, (3) consider revising the current smoothhound shark quota based on updated catch data.

Timetable:

Action | Date | FR Cite
NPRM | 12/00/13 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BB02

49. Amendment 89 to the Gulf of Alaska Groundfish Fishery Management Plan Area Closures For Chionoecetes Bairdi Crab Protection in Gulf of Alaska Groundfish Fisheries

Legal Authority: 16 U.S.C. 1540 ; 16 U.S.C. 1801 et seq.; 16 U.S.C. 3631 et seq.; 16 U.S.C. 773 et seq.; Pub. L. 105-277 ; Pub. L. 106-31

Abstract: This action would close a portion of Marmot Bay, northeast of Kodiak Island, to the use of pot and trawl gear (with the exception of pelagic gear used to target pollock) in groundfish fisheries year-round and require additional observer coverage (100 percent for trawl vessels and 30 percent for pot vessels) in two areas east of Kodiak Island—the Chiniak Gully and State of Alaska Statistical Area 525702. These additional observer coverage requirements are expected to be rescinded with the implementation of the restructured Observer Program.This action is necessary to protect stocks of Tanner crab near Kodiak Islands from the effects of using non-pelagic trawl and pot gear used to target groundfish in Marmot Bay and to provide improved estimates of the incidental catch of Tanner crab in two areas east of Kodiak Island by vessels using non-pelagic trawl and pot gear and to accomplish the goals and objectives of the Fishery Management Plan for Groundfish of the Gulf of Alaska. The intended effect of this action is to conserve and manage the fishery resources in the Gulf of Alaska.

Timetable:

Action | Date | FR Cite
Proposed Rule | 07/00/13 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov

RIN: 0648-BB76

50. Generic Amendment to Several Fishery Management Plans in the Gulf of Mexico and South Atlantic Regions To Modify Federally-Permitted Seafood Dealer Reporting Requirements

Legal Authority: 16 U.S.C. 1801 et seq.

Abstract: To better ensure commercial landings of managed fish stocks do not exceed annual catch limits, improvements are needed to the accuracy, completeness, consistency, and timeliness of data submitted by federally-permitted seafood dealers. The purpose of the generic amendment is to change the current reporting requirements for those dealers who purchase fish managed under several of the Gulf of Mexico and South Atlantic Fishery Management Council fishery management plans. Changes are proposed to the current six dealer permits to increase the species that must be reported. Changes are also proposed to the method and frequency of dealer reporting. This action will aid in achieving the optimum yield from each fishery while reducing (1) undue socioeconomic harm to dealers and fishermen and (2) administrative burdens to fishery agencies.

Timetable:

Action | Date | FR Cite
NPRM | 07/00/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC12

51. Amendment 43 to the FMP for BSAI King and Tanner Crabs and Amendment 103 to the FMP for Groundfish of the BSAI

Legal Authority: 16 U.S.C. 1801

Abstract: This proposed rule would implement both Amendment 43 to the Fishery Management Plan for Bering Sea/Aleutian Islands King and Tanner Crabs and Amendment 103 to the Fishery Management Plan for Groundfish of the Bering Sea and Aleutian Islands Management Area. Amendment 43 revises the current rebuilding plan for Pribilof Islands blue king crab (blue king crab) and Amendment 103 implements groundfish fishing restrictions. A no-trawl Pribilof Islands Habitat Conservation Zone (Zone) was established in 1995 and the directed fishery for blue king crab has been closed since 1999. A rebuilding plan was implemented in 2003; however, blue king crab remains overfished and the current rebuilding plan has not achieved adequate progress towards rebuilding the stock by 2014. The proposed rule would close the Zone to all Pacific cod pot fishing in addition to the current trawl prohibition. This measure would help support blue king crab rebuilding and prevent exceeding the overfishing limit of blue king crab by minimizing to the extent practical blue king crab bycatch in the groundfish fisheries.

Timetable:

Action | Date | FR Cite
NPRM | 07/00/13 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BC34

52. Amendment 95 to the Fishery Management Plan for Groundfish of the Gulf Of Alaska

Legal Authority: 16 U.S.C. 1801 et seq.

Abstract: This action implements Amendment 95 to the Fishery Management Plan for Groundfish of the Gulf of Alaska. This action modifies halibut prohibited species catch management in the Gulf of Alaska to (1) establish the Gulf of Alaska halibut prohibited species catch limits in federal regulation; (2) reduce the Gulf of Alaska halibut prohibited species catch limits for the trawl, hook and line catcher/processor and catcher vessel sectors, and the hook and line demersal shelf rockfish fishery in the Southeast Outside District; and (3) allow two additional options for vessels to better maintain groundfish harvest while achieving the halibut prohibited species catch reduction of this action.

Timetable:

Action | Date | FR Cite
NPRM | 07/00/13 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BC39

53. Framework Action To Set the Annual Catch Limit for Vermilion and Yellowtail Snapper, and Modify the Bag Limit for Vermilion Snapper

Legal Authority: 16 U.S.C. 1801 et seq.

Abstract:The current vermilion snapper annual catch limit (ACL) is 3.42 million pounds (mp). A 2011 stock assessment indicates vermilion snapper are not overfished or undergoing overfishing. Based on the assessment, the Gulf of Mexico Fishery Management Councils (Council) Scientific and Statistical Committee (SSC) has recommended an acceptable biological catch level much higher than the current ACL (>1 mp). This framework action evaluates different options for setting the ACL and (optionally) an annual catch target consistent with the SSCs recommendation while minimizing the risk of overfishing. The Council has requested a subsequent emergency rule that will increase the 2012 ACL to avoid a closure of the vermilion snapper component of the Gulf of Mexico reef fish fishery.

Timetable:

Action | Date | FR Cite
NPRM | 07/00/13 |

Regulatory Flexibility Analysis Required: No.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC51

54. Regulatory Amendment 15 to the Fishery Management Plan for the Snapper-Grouper Fishery of the South Atlantic Region (Section 610 Review)

Legal Authority: 16 U.S.C. 1801 et seq.

Abstract: The regulatory amendment contains the following actions: Yellowtail Snapper A new stock assessment for yellowtail snapper suggests the yellowtail snapper annual catch limit (ACL) can be increased. Based on this information, the Council is considering changes to the January 1 commercial fishing year start date and the establishment of a commercial spawning season closure. The purposes of the actions are to benefit fishermen and fishing communities that utilize the yellowtail snapper portion of the snapper-grouper fishery by increasing the probability of a year-round fishery and minimizing the probability of closures during peak harvest times. The spawning season closure would protect fish during spawning periods. In 2009, the Council established an accountability measure (AM) for the commercial sector that closes the commercial fishery for gag and all other South Atlantic shallow water grouper (SASWG) for the remainder of the fishing year when the gag ACL is met. SASWG includes gag, black grouper, red grouper, scamp, red hind, rock hind, yellowmouth grouper, yellowfin grouper, graysby, and coney. The Council is considering changing the AM so that only gag is commercially prohibited when the gag commercial ACL is met. The purpose of the action is to reduce adverse socioeconomic effects to fishermen and fishing communities that utilize the shallow water grouper portion of the snapper-grouper fishery. Since 2009, the Council and NOAA Fisheries have implemented regulations that most likely reduced the discards of gag, including the establishment of ACLs and AMs for species that commonly occur with gag.

Timetable:

Action | Date | FR Cite
NPRM | 07/00/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC60

55. Amendment 28 to the Fishery Management Plan for the Snapper Grouper Fishery of the South Atlantic Region

Legal Authority: 16 U.S.C. 1801 et seq.

Abstract: A limited red snapper fishing season was established in 2012 through an emergency action under the Magnuson-Stevens Fishery Conservation and Management Act. The South Atlantic Fishery Management Council (Council) determined that some directed harvest could be allowed without compromising the rebuilding of the red snapper stock to target levels, and they saw the limited harvest as an opportunity to collect additional data on red snapper. Through Amendment 28, the Council intends to establish a process that would allow this type of limited harvest for red snapper in 2013 and in the future, depending on the projected mortalities (landings and discards) for the current fishing year and the amount of harvest from the previous year. The proposed actions would benefit fishermen and fishing communities that utilize the red snapper portion of the snapper grouper fishery.

Timetable:

Action | Date | FR Cite
Notice | 03/12/13 | 78 FR 15672
NPRM | 07/00/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC63

56. • Amendment 3 to the Spiny Dogfish Fishery Management Plan

Legal Authority: 16 U.S.C. 1801 et seq.

Abstract: The action would make four modifications to the management measures in the Spiny Dogfish Fishery Management Plan. These include allowing up to 3% of the annual quota to be set aside for research purposes (research set-aside), updating the essential fish habitat definitions for spiny dogfish, allowing the previous year's management measures to be carried over into the subsequent year in the case of rulemaking delays, and removing the seasonal allocation of the commercial quota. The action is needed to improve the efficiency of the Spiny Dogfish Fishery Management Plan, and help reduce misalignment of regulations with the Atlantic States Marine Fisheries Commission's Interstate Fishery Management Plan for spiny dogfish.

Timetable:

Action | Date | FR Cite
NPRM | 08/00/13 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BC77

57. • Amendment 30 to the Fishery Management Plan for the Snapper-Grouper Fishery of the South Atlantic Region

Legal Authority: 16 U.S.C. 1801 et seq.

Abstract: Amendment 30 would require commercial vessels harvesting snapper-grouper species in the South Atlantic to have onboard an operating vessel monitoring system (VMS) approved by the National Marine Fisheries Service (NMFS). There is a need within the snapper-grouper fishery to improve enforceability of area fishing restrictions. The fishery management plan contains several area-specific regulations where snapper-grouper fishing is restricted or prohibited to protect habitat, fish populations, and spawning aggregations. Unlike management measures such as size, bag, and trip limits, where the catch can be monitored onshore when a vessel returns to port, area restrictions require at-sea enforcement to be effective. However, at-sea enforcement of offshore area restrictions is difficult because of the distance from shore and limited number of available patrol vessels. An operating VMS would allow NMFS law enforcement personnel and their enforcement partners to monitor compliance with area-specific regulations and prosecute violations. A VMS requirement would also allow for increased accurate tracking and monitoring of locations where snapper-grouper vessels land fish.

Timetable:

Action | Date | FR Cite
NPRM | 08/00/13 |

Regulatory Flexibility Analysis Required: No.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC99

58. • Allowing Northeast Multispecies Sector Vessels Access to Year Round Closed Areas

Legal Authority: 16 U.S.C. 1801 et seq.

Abstract: This action, if approved, would allow Northeast Multispecies vessels enrolled in a sector to fish in any of three year-round closed areas on Georges Bank during select times of the 2013 fishing year. The three areas under consideration include portions of the Nantucket Lightship Closed Area I, Closed Area I, and Closed Area II. All gear types would be permitted to fish in the Nantucket Lightship Closed Area year-round. Trawl vessels fishing with selective gear and vessels using hooks would be permitted to fish in Closed Areas I and II for portion of the fishing year. This action is being proposed to increase access to underharvest groundfish stocks while reducing potential impacts on groundfish stocks that are considered overfished or subject to overfishing.

Timetable:

Action | Date | FR Cite
NPRM | 07/00/13 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BD09

59. • Amendment 2 to the Fishery Management Plan for the Queen Conch Resources of Puerto Rico and the USVI: Compatibility of Trip and Bag Limits in the Management Area of St. Croix, USVI

Legal Authority: 16 U.S.C. 1801 et seq.

Abstract: This regulatory amendment addresses the current incompatibility between certain federal and USVI regulations related to the harvest of queen conch. Fishing and possessing queen conch in the exclusive economic zone is only allowed in the area of Lang Bank, to the east of St. Croix, USVI. However, current regulations regarding commercial trip limits and recreational bag limits for the harvest of queen conch in federal waters are not compatible with USVI regulations. The USVI has expressed interest in having federal regulations modified to make them compatible with the territorial limits to facilitate enforcement efforts, enhance compliance by fishers, and allow for more efficient management of queen conch resources in the U.S. Caribbean. In this regulatory amendment, the Caribbean Fishery Management Council chose to modify the commercial trip limit but leave the recreational bag limit unchanged. Thus, the rule would change the commercial trip limit from 150 queen conch per licensed commercial fisher per day to 200 queen conch per vessel per day regardless of the number of licensed commercial fishers onboard.

Timetable:

Action | Date | FR Cite
NPRM | 07/00/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BD15

60. • Amendment 5B to the Highly Migratory Species Fishery Management Plan

Legal Authority: 16 U.S.C. 1801 et seq.; 16 U.S.C. 971 et seq.

Abstract: This rulemaking would propose management measures for dusky sharks based on a recent stock assessment, taking into consideration comments received on the proposed rule and Draft Amendment 5 to the 2006 Consolidated HMS FMP (November 26, 2012, 77 FR 70522). This rulemaking could consider a range of commercial and recreational management measures in both directed and incidental shark fisheries including, among other things, gear modifications, time/area closures, permitting, shark identification requirements, and reporting requirements. NOAA Fisheries determined dusky sharks are still overfished and still experiencing overfishing (October 7, 2011, 76 FR 62331) and originally proposed management measures to end overfishing and rebuild dusky sharks in a proposed rule for Draft Amendment 5 to the 2006 Consolidated Atlantic Highly Migratory Species Fishery Management Plan. That proposed rule also contained management measures for scalloped hammerhead, sandbar, blacknose and Gulf of Mexico blacktip sharks. During the comment period, NOAA Fisheries received numerous comments on the proposed dusky shark measures regarding the data sources, and the analyses of these data, and comments requesting consideration of approaches to dusky shark fishery management that were significantly different from those analyzed in the proposed rule. NOAA Fisheries therefore decided to move forward with Draft Amendment 5's management measures for scalloped hammerhead, sandbar, blacknose and Gulf of Mexico blacktip sharks in a final rule and final amendment that will now be referred to as “Amendment 5a” to the 2006 Consolidated Atlantic Highly Migratory Species Fishery Management Plan. Dusky shark management measures will be addressed in this separate, but related, action and will be referred to as “Amendment 5b.”

Timetable:

Action | Date | FR Cite
NPRM | 08/00/13 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BD22

61. Marine Mammal Protection Act Permit Regulation Revisions

Legal Authority: 16 U.S.C. 1374

Abstract: This action would consider revisions to the implementing regulations governing the issuance of permits for activities under Section 104 of the Marine Mammal Protection Act. The intent of this action would be to streamline and update (using plain language) the general permitting information and the specific requirements for the four categories of permits: Scientific research (including the General Authorization); enhancement; educational and commercial photography; and public display. The revisions would also simplify procedures for collection, possession, and transfer of marine mammals parts collected before the effective date of the Marine Mammal Protection Act, and also clarify reporting requirements for public display facilities holding marine mammals.

Timetable:

Action | Date | FR Cite
ANPRM | 09/13/07 | 72 FR 52339
ANPRM Comment Period Extended | 10/15/07 | 72 FR 58279
ANPRM Comment Period End | 11/13/07 | 72 FR 52339
ANPRM Comment Period End | 12/13/07 | 72 FR 58279
NPRM | 04/00/14 |

Regulatory Flexibility Analysis Required: Yes.

Agency Contact: Helen Golde, Department of Commerce, National Oceanic and Atmospheric Administration, Marine Sanctuaries Division, 1305 East-West Highway, Silver Spring, MD 20910, Phone: 301 427-8400, Email: helen.golde@noaa.gov.

RIN: 0648-AV82

62. Amendment and Updates to the Bottlenose Dolphin Take Reduction Plan

Legal Authority: 16 U.S.C. 1361 et seq.; 16 U.S.C. 1531 et seq.

Abstract: NMFS proposes a rule to amend regulations under the Bottlenose Dolphin Take Reduction Plan (Plan). The regulations are to reduce bottlenose dolphin serious injuries and mortalities incidental to the Virginia Pound net fishery. The Plan recommended the year-round use of modified leaders for offshore pound nets within parts of the Chesapeake Bay and Virginia coastal waters. Regulations for Virginia Pound Nets are currently implemented under the Endangered Species Act for sea turtle conservation. The Plan recommended similar regulations to those currently enacted under the Endangered Species Act; however, the proposed regulations under the Plan will offer greater conservation benefits to both bottlenose dolphins and sea turtles. Because the proposed regulations may affect current sea turtle regulations, a joint-rulemaking will be conducted under both the Marine Mammal Protection Act and Endangered Species Act to amend: (1) The Plan under the Marine Mammal Protection Act, proposing Virginia pound net requirements; and (2) current federal sea turtle regulations for Virginia pound nets under the Endangered Species Act to ensure consistency between regulations.

Timetable:

Action | Date | FR Cite
NPRM | 08/00/13 |

Regulatory Flexibility Analysis Required: Yes.

Agency Contact: Helen Golde, Department of Commerce, National Oceanic and Atmospheric Administration, Marine Sanctuaries Division, 1305 East-West Highway, Silver Spring, MD 20910, Phone: 301 427-8400, Email: helen.golde@noaa.gov.

RIN: 0648-BB37

63. • Designation of Critical Habitat for the Distinct Population Segments of Yelloweye Rockfish, Canary Rockfish, and Bocaccio

Legal Authority: 16 U.S.C. 1531 et seq.

Abstract: This action proposes to designate critical habitat under the Endangered Species Act for three Distinct Population Segments of rockfish in the Puget Sound/Georgia Basin: (1) The threatened Distinct Population Segments of yelloweye rockfish; (2) the threatened Distinct Population Segments of canary rockfish; and (3) the endangered Distinct Population Segments of bocaccio. The proposed specific areas for canary rockfish and bocaccio comprise approximately 505 hectares (1,249 acres) of marine habitat in Puget Sound. The proposed areas for yelloweye rockfish comprise approximately of 245 hectares (606 acres) of marine habitat in Puget Sound.

Timetable:

Action | Date | FR Cite
NPRM | 07/00/13 |

Regulatory Flexibility Analysis Required: No.

Agency Contact: Helen Golde, Department of Commerce, National Oceanic and Atmospheric Administration, Marine Sanctuaries Division, 1305 East-West Highway, Silver Spring, MD 20910, Phone: 301 427-8400, Email: helen.golde@noaa.gov.

RIN: 0648-BC76

64. • Amending the Atlantic Large Whale Take Reduction Plan

Legal Authority: 16 U.S.C. 1361 et seq.

Abstract: NMFS is proposes to amend the Atlantic Large Whale Take Reduction Plan. These changes are designed to address ongoing right, humpback, and fin whale entanglements resulting in serious injury or mortality. In 2009, the Atlantic Large Whale Take Reduction Team (Team) agreed on a schedule to develop conservation measures for reducing the risk of serious injury and mortality of large whales that become entangled in vertical lines. In an August 2012 American Lobster Biological Opinion, NMFS committed to publishing a proposed rule to address vertical line entanglements in 2013 and to publish a final rule by April 2014. Unlike the broad-scale management approach taken to address entanglement risks associated with groundlines (rope between trap/pots), the approach for the vertical line rulemaking will focus on reducing the risk of vertical line entanglements in finer-scale high impact areas. Using fishing gear characterization data and whale sightings per unit effort data, NMFS developed a model to determine the co-occurrence of fishing gear density and whale density to serve as a guide in the identification of these high risk areas. Potential measures include: Expanding the gear marking scheme to require larger and more frequent marks along the buoy line; increasing the number of traps per trawl based on area fished and miles fished from shore in the northeast; establishing several closures in the northeast for trap/pot fisheries; modifying weak link and breaking strength requirements of buoy lines; and requiring the use of one buoy line with one trap in the southeast.

Timetable:

Action | Date | FR Cite
NPRM | 09/00/13 |

Regulatory Flexibility Analysis Required: Yes.

Agency Contact: Helen Golde, Department of Commerce, National Oceanic and Atmospheric Administration, Marine Sanctuaries Division, 1305 East-West Highway, Silver Spring, MD 20910, Phone: 301 427-8400. Email: helen.golde@noaa.gov.

RIN: 0648-BC90

DEPARTMENT OF COMMERCE (DOC)

National Oceanic and Atmospheric Administration (NOAA)

Final Rule Stage

NATIONAL MARINE FISHERIES SERVICE

65. Addendum IV to the Weakfish Interstate Management Plan—Bycatch Trip Limit

Legal Authority: 16 U.S.C. 5101

Abstract: This action would modify management restrictions in the Federal weakfish fishery in a manner consistent with the Atlantic States Marine Fisheries Commission Interstate Plan. The proposed change would decrease the incidental catch allowance for weakfish in the exclusive economic zone in non-directed fisheries using smaller mesh sizes, from 150 pounds to no more than 100 pounds per day or trip, whichever is longer in duration. In addition, it would impose a one fish possession limit on recreational fishers.

Timetable:

Action | Date | FR Cite
NPRM | 05/12/10 | 75 FR 26703
NPRM Comment Period End | 06/11/10 |
NPRM Comment Period Re-opened | 06/16/10 | 75 FR 34092
Comment Period End | 06/30/10 |
Final Action | 12/00/13 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-AY41

66. Fisheries Off West Coast States; Pacific Coast Groundfish Fishery; Trawl Rationalization Program; Cost Recovery Program

Legal Authority: 16 U.S.C. 1853

Abstract: This action would implement cost recovery for the Pacific Coast Groundfish Trawl Rationalization Program. Following final action on Amendment 20 to the Pacific Coast Groundfish Fishery Management Plan by the Pacific Fishery Management Council, NMFS implemented the trawl rationalization program on January 11, 2011. In accordance with the Magnuson-Stevens Fishery Conservation and Management Act, the Secretary of Commerce is required to collect a fee to recover the actual costs directly related to the management, data collection, and enforcement of any limited access privilege program (LAPP), which includes the trawl rationalization program. The fee will not exceed 3% of the ex-vessel value of the fish harvested under the LAPP.

Timetable:

Action | Date | FR Cite
NPRM | 02/01/13 | 78 FR 7371
Final Action | 11/00/13 |

Regulatory Flexibility Analysis Required: Yes.

Agency Contact: Barry Thom, Regional Administrator, Northwest Region, NMFS, Department of Commerce, National Oceanic and Atmospheric Administration, Building 1, 7600 Sand Point Way NE., Seattle, WA 48115-0070, Phone: 206 526-6150, Fax: 206 526-6426, Email: barry.thom@noaa.gov.

RIN: 0648-BB17

67. Amendment 18B to the Snapper Grouper Fishery Management Plan of the South Atlantic Region

Legal Authority: 16 U.S.C. 1801 et seq.

Abstract: The South Atlantic Council intends to limit participation in the golden tilefish component of the snapper-grouper fishery. This amendment proposes to establish a longline endorsement program for golden tilefish, establish golden tilefish allocations for the hook and line and longline sectors, and modify golden tilefish trip limits.

Timetable:

Action | Date | FR Cite
Notice | 10/26/12 | 77 FR 65356
NPRM | 12/19/12 | 77 FR 75093
Final Action | 07/00/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB58

68. Amendment to the Vessel Ownership Requirements of the Individual Fishing Quota Program for Fixed-Gear Pacific Halibut and Sablefish Fisheries in and Off of Alaska

Legal Authority: 16 U.S.C. 1801 et seq.; 16 U.S.C. 3631 et seq.; 16 U.S.C. 773 et seq.; Pub. L. 108-447

Abstract: This action proposes a regulatory amendment to the vessel ownership requirements of the Individual Fishing Quota Program for fixed-gear Pacific halibut and sablefish fisheries in and off of Alaska. This action proposes to require initial recipients of certain classes of quota share to have held a minimum of 20 percent ownership interest in the vessel for at least 12 consecutive months prior to the submission of an application to hire a master for the purposes of fishing an Individual Fishing Quota permit. This proposed action also would temporarily exempt from the 12-month ownership requirement an initial recipient whose vessel has been totally lost, as by sinking or fire, or so damaged that the vessel would require at least 60 days of shipyard time to be repaired. This action is necessary to maintain a predominantly owner-operated fishery.

Timetable:

Action | Date | FR Cite
NPRM | 10/31/12 | 77 FR 65843
Final Action | 07/00/13 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BB78

69. Pacific Coast Groundfish Trawl Rationalization Program Reconsideration of Allocation of Whiting (RAW 2)

Legal Authority: 16 U.S.C. 1801 et seq.

Abstract: On February 21, 2012, Judge Henderson issued the remedy order in Pacific Dawn, LLC v. Bryson, No. C10-4829 TEH (N.D. Cal.). The Order remands the regulations addressing the initial allocation of whiting for the shorebased individual fishing quota (IFQ) fishery and the at-sea mothership fishery of the Pacific Coast Groundfish Trawl Rationalization Program (program) for further consideration consistent with the courts December 22, 2011 summary judgment ruling, the Magnuson-Stevens Fishery Conservation and Management Act (MSA), and all other governing law. Further, the Order requires that the National Marine Fisheries Service (NMFS) implement revised regulations before the 2013 Pacific whiting fishing season begins on April 1, 2013. This action implements revised regulations, as appropriate, including a reallocation of whiting and potentially some related species. This action may include a Paperwork Reduction Act package to clear application forms, and any other necessary documentation.

Timetable:

Action | Date | FR Cite
ANPRM | 04/04/12 | 77 FR 20337
Proposed Rule | 01/02/13 | 78 FR 72
Final Rule | 03/28/13 | 78 FR 18879
Final Action | 08/00/13 |

Regulatory Flexibility Analysis Required: Yes.

Agency Contact: Frank Lockhart, Program Analyst, Department of Commerce, National Oceanic and Atmospheric Administration, 7600 Sand Point Way NE., Seattle, WA 98115, Phone: 206 526-6142, Fax: 206 526-6736, Email: frank.lockhart@noaa.gov.

RIN: 0648-BC01

70. Amendment 4 to the Fishery Management Plan for the Reef Fish Fishery of Puerto Rico and the U.S. Virgin Islands: Parrotfish Size Limits.

Legal Authority: 16 U.S.C. 1801 et seq.

Abstract: The purpose of the plan amendment is to implement size limits for parrotfish harvest in the U.S. Caribbean exclusive economic zone. Size limits are intended to allow juvenile parrotfish to mature into reproductively active females, and to have a chance to spawn prior to harvest. Reproductively active females are a necessary component of a healthy, sustainable population.

Timetable:

Action | Date | FR Cite
NPRM | 03/11/13 | 78 FR 15338
Final Action | 07/00/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC20

71. Amendment 42 to the Fishery Management Plan for Bering Sea/Aleutian Islands King and Tanner Crabs

Legal Authority: 16 U.S.C. 1801 et seq.; Pub. L. 109-241; Pub. L. 109-479

Abstract: NMFS proposes regulations to implement Amendment 42 to the Fishery Management Plan for Bering Sea/Aleutian Islands King and Tanner Crabs (FMP). Amendment 42 revises the annual economic data reports currently required from catcher vessels, catcher/processors, shoreside processors, and stationary floating crab processors participating in the Bering Sea and Aleutian Islands Crab Rationalization Program. The economic data reports include cost, revenue, ownership, and employment data in order to study the economic impacts of the Crab Rationalization Program on harvesters, processors, and affected communities. Amendment 42 will eliminate redundant reporting requirements, standardize reporting across respondents, and reduce costs associated with the data collection.

Timetable:

Action | Date | FR Cite
Notice | 03/12/13 | 78 FR 15677
NPRM | 03/21/13 | 78 FR 17341
Final Action | 07/00/13 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BC25

72. Framework Adjustment 48 to the Northeast Multispecies Fishery Management Plan

Legal Authority: 16 U.S.C. 1801 et seq.

Abstract: The proposed action would implement Framework Adjustment 48 to the Northeast Multispecies Fishery Management Plan. Framework 48 would set specifications for groundfish stocks for fishing years 2013 through 2015. This action would also adopt the total allowable catches for the U.S./Canada Management Area consistent with the U.S./Canada Resource Understanding. The Georges Bank yellowtail flounder quota is expected to be substantially reduced through this action, potentially limiting fishing for more valuable species and resulting in economic losses for the groundfish and scallop industries. Quotas for Gulf of Maine and Georges Bank cod are also expected to also be substantially reduced. This action also includes measures to allow fishing in areas that have been previously closed. This action is necessary to end overfishing and continue rebuilding of certain groundfish stocks and improve the profitability of the groundfish fishery.

Timetable:

Action | Date | FR Cite
Notice of Intent | 06/21/12 | 77 FR 37387
NPRM | 03/25/13 | 78 FR 18187
Final Action | 07/00/13 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BC27

73. Georges Bank Yellowtail Flounder Emergency Action to Provide a Partial Exemption From Accountability Measures to the Atlantic Scallop Fishery

Legal Authority: 16 U.S.C. 1801 et seq.

Abstract: This proposed action, requested by the New England Fishery Management Council, would exempt the Atlantic sea scallop fishery from any accountability measure for catch of Georges Bank yellowtail flounder exceeding the revised sub-annual catch limit of 156.9 mt up to the initial sub-annual catch limit level of 307.5 mt. By exempting the scallop fleet from accountability measures at the lower revised 156.9 mt sub-ACL, but maintaining accountability at the 307.5 mt level initially set for the fishing year, there remains a need for the scallop fleet to mitigate yellowtail flounder catch but to do so within the context of the initial level established for the fishing year. This specific accountability measure is not needed to comply with Magnuson Stevens Fishery Conservation and Management Act requirements because there is an accountability measure at the fishery level that remains unchanged by this proposed action. Any overage of the fishery level ACL is repaid pound-for-pound in a subsequent fishing year.

Timetable:

Action | Date | FR Cite
NPRM | 10/01/12 | 77 FR 59883
NPRM Comment Period End | 10/31/12 |
Final Action | 07/00/13 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BC33

74. Management Measures for Pacific Bluefin Tuna in the Eastern Pacific Ocean

Legal Authority: 16 U.S.C. 951-961 et seq.

Abstract: This rule would restrict U.S. commercial fishing in the eastern Pacific Ocean for 2012 and 2013 by preventing further commercial retention of bluefin tuna after (1) the commercial catch of bluefin tuna by the international fleet reaches 10,000 metric tons; (2) the commercial catch of bluefin tuna by the international fleet reaches 5,600 metric tons during the year 2012. Notwithstanding these restrictions, the United States commercial fishery may catch up to 500 metric tons of pacific bluefin tuna in 2012 and 2013. This regulation would be issued under the authority of the Tuna Conventions Act, as amended to implement recommendations of the Inter-American Tropical Tuna Commission (IATTC). At the annual IATTC meeting in June 2012, the IATTC adopted Resolution C-12-09, Conservation and Management Measure for Bluefin Tuna in the Eastern Pacific Ocean. This rulemaking would ensure that the United States is satisfying its obligations as a party to the IATTC Convention. It is not anticipated that as a result of implementing Resolution C-12-09 that there would be any economic effect, or very limited economic effect. No commercial vessels specialize in harvesting Pacific Bluefin. Pacific Bluefin is caught commercially by small coastal purse seine vessels operating in the Southern California Bight with limited additional landings by the drift gillnet fleet that targets swordfish. The Pacific bluefin commercial catch limitations are not expected to result in a closure of the United States fishery because catches from recent years have not reached the 500 metric ton limit. The last time the United States exceeded 500 metric tons was in 1998.

Timetable:

Action | Date | FR Cite
NPRM | 12/12/12 | 77 FR 73969
Final Action | 07/00/13 |

Regulatory Flexibility Analysis Required: Yes.

Agency Contact: Mark Helvey, Assistant Regional Administrator for Sustainable Fisheries, Department of Commerce, National Oceanic and Atmospheric Administration, 501 West Ocean Boulevard, Long Beach, CA 90802, Phone: 562 980-4040, Fax: 562 980-4047, Email: mark.helvey@noaa.gov.

RIN: 0648-BC44

75. Regulatory Amendment to Implement an Exempted Fishery for the Spiny Dogfish Fishery Off Cape Cod, MA

Legal Authority: 16 U.S.C. 1801 et seq.

Abstract: This action establishes an exempted fishery because it has been determined that the directed fishery for spiny dogfish does not catch more than a small amount of groundfish. Implementing this action would allow vessels to target spiny dogfish without having to their declared days-at-sea or sector groundfish trips affected. This action would exempt the groundfish sectors from having a groundfish discard rate applied to these trips, which means the sectors would not use their groundfish allocations as fast. Specifically, this rule would create an exempted fishery for vessels using gillnet and longline gear from June through December and handline gear from June through August in an area off Cape Cod, MA where less than five percent of their catch is groundfish.

Timetable:

Action | Date | FR Cite
NPRM | 10/19/12 | 77 FR 64305
Final Action | 07/00/13 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BC50

76. Amendment 9 to the Fishery Management Plan for the Shrimp Fishery of the South Atlantic Region

Legal Authority: 16 U.S.C. 1801 et seq.

Abstract: The Fishery Management Plan for the Shrimp Fishery of the South Atlantic Region (FMP) includes a process for a state to request a concurrent closure to the harvest of penaeid shrimp in adjacent federal waters during a cold weather event. The South Atlantic Fishery Management Council (Council) is concerned the current process is administratively burdensome and may unintentionally hinder protections for the overwintering shrimp stock affected by the cold weather and protected by the closure. Amendment 9 would modify the criteria and process used for South Atlantic states to request concurrent closure of federal waters to penaeid shrimp fishing to protect overwintering shrimp stocks. The amendment would add a temperature threshold that could be used as triggering criterion for states to request a concurrent closure of federal waters, in lieu of, or in addition to, the current abundance criterion. Additionally, Shrimp Amendment 9 would streamline the administrative process by allowing states to request a concurrent closure which would eliminate the Council review of requests.

Timetable:

Action | Date | FR Cite
Notice | 03/14/13 | 78 FR 14069
NPRM | 03/20/13 | 78 FR 17178
Final Action | 07/00/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC58

77. Framework Action to Set the 2013 Gag Recreational Fishing Season and Bag Limit and Modify the February-March Shallow-Water Grouper Closed Season

Legal Authority: 16 U.S.C. 1801 et seq.

Abstract: Gulf of Mexico gag is overfished and the stock currently in a rebuilding plan. The rebuilding plan is scheduled to increase the recreational annual catch target from 1.031 to 1.287 million pounds (mp) in 2013. The current recreational gag season is July 1 to October 31 and was designed to limit the harvest to the 2012 recreational annual catch target while providing the longest possible recreational season. This framework action proposes to establish a 2013 gag recreational fishing season consistent with the increased 1.287 mp annual catch target that modifies the season opening to provide greater socioeconomic benefits to the recreational community. Moving the season to a time when there is greater fishing effort will reduce the number of days available to fish. To counteract this, this framework action also considers a one-gag rather than two-gag bag limit. The current recreational shallow-water grouper closed season of February 1 through March 31 was developed partly to protect gag spawning aggregations. However, because a separate recreational gag season has been developed as part of the gag rebuilding plan and other shallow-water grouper stocks are considered healthy, the utility of the shallow-water grouper closure has been questioned. Therefore, this framework action also evaluates the shallow-water grouper recreational closure to see if it should be modified or eliminated.

Timetable:

Action | Date | FR Cite
NPRM | 02/12/13 | 78 FR 12012
Final Action | 07/00/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC64

78. • Pacific Halibut Fisheries; Catch Sharing Plan

Legal Authority: 16 U.S.C. 773 et seq.

Abstract: Each year, the Pacific Fishery Management Council (Council) reviews and receives public comment on its Pacific Halibut Catch Sharing Plan (Plan) to determine whether revisions are needed to achieve management objectives for any of the West Coast halibut fisheries. As recommended by the Council, for 2013 and beyond, this action implements minor changes to the portion of the Plan covering the sport fisheries and the salmon troll commercial fishery that incidentally catches halibut. For the Columbia River subarea sport fishery the changes increase the early season percentage, decrease the late season percentage, and decrease the days of the week. This change was recommended to more fully attain this subarea's quota. This action eliminates the summer all depth season and transferring the summer quota to the spring and nearshore fisheries, for the Oregon Central coast subarea, which may be triggered by a U.S. West Coast TAC of 700,000 lbs. Additionally in this area for the nearshore fishery, there will be a reduction to the number of open days from seven to three. Finally, the start date for halibut retention in the salmon troll fishery will be changed from May 1 to April 1 each year.

Timetable:

Action | Date | FR Cite
NPRM | 02/11/13 | 78 FR 9660
Final Rule | 03/15/13 | 78 FR 16423
Final Action | 08/00/13 |

Regulatory Flexibility Analysis Required: Yes.

Agency Contact: Frank Lockhart, Program Analyst, Department of Commerce, National Oceanic and Atmospheric Administration, 7600 Sand Point Way NE., Seattle, WA 98115, Phone: 206 526-6142, Fax: 206 526-6736, Email: frank.lockhart@noaa.gov.

RIN: 0648-BC75

79. • 2013-2015 Spiny Dogfish Fishery Specifications

Legal Authority: 16 U.S.C. 1801 et seq.

Abstract: The proposed action would implement annual catch limits for the spiny dogfish fishery for the 2013-2015 fishing years. The New England and Mid-Atlantic Fishery Management Councils have jointly recommended the Annual catch limits and commercial quotas for FYs 2013-2015. 2013: ACL = 54.295 million lb; commercial quota = 40.842 million lb (+14% from 2012) 2014: ACL = 55.277 million lb; commercial quota = 41.784 million lb (+17% from 2012) 2015: ACL = 55.063 million lb; commercial quota = 41.578 million lb (+16% from 2012). The Councils have also recommended an increase in the spiny dogfish possession limit from 3,000 lb to 4,000 lb per trip in each year. The Councils have recommended the possession limit increase to help improve the likelihood of fully harvesting the proposed quotas, which have increased significantly in recent years, and therefore increase trip-level spiny dogfish revenues. At the current rate of landings, with a 3,000-lb possession limit, the fishery may be unable to land the current year's commercial quota.

Timetable:

Action | Date | FR Cite
NPRM | 03/12/13 | 78 FR 15674
Final Action | 07/00/13 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BC85

80. • International Fisheries; Western and Central Pacific Fisheries for Highly Migratory Species; Fishing Restrictions in Purse Seine Fisheries for 2013 and 2014

Legal Authority: 16 U.S.C. 6901 et seq.

Abstract: This rule would establish requirements for U.S. purse seine vessels pursuant to a decision made by the Western and Central Pacific Fisheries Commission, which is intended to reduce or otherwise control the fishing mortality rates on three stocks of tuna (Bigeye, Yellowfin, and Skipjack Tuna). Member States of the Commission, including the United States, are obligated to establish specific requirements in their fisheries for highly migratory fish stocks in the western and central Pacific Ocean. Pursuant to the Western and Central Pacific Fisheries Convention Implementation Act, 16 U.S.C. 6901, et seq., the Secretary of Commerce is authorized to implement regulations to carry out the obligations of the United States under the Western and Central Pacific Fisheries Convention (Convention), including the implementation of Commission decisions such as CMM 2012-01. This rule would implement the requirements for U.S. purse seine vessels. The rule would include limits for calendar years 2013 and 2014 on U.S. purse seine fishing effort on the high seas and in the U.S. exclusive economic zone in the Convention Area. It proposes to set controls on the use of fish aggregating devices by U.S. purse seine vessels during 2013 and 2014, including periods during which purse seine fishing may not be done on schools aggregated in association with fish aggregating devices. Finally, this action would implement a requirement, if necessary, for U.S. purse seine vessels to carry observers on all fishing trips in the Convention Area.

Timetable:

Action | Date | FR Cite
NPRM | 03/07/13 | 78 FR 14755
Correction | 03/25/13 | 78 FR 17919
Final Action | 07/00/13 |

Regulatory Flexibility Analysis Required: Yes.

Agency Contact: Tom Graham, Department of Commerce, National Oceanic and Atmospheric Administration, 1601 Kapiolani Blvd., Suite 1110, Honolulu, HI 96814-4700, Phone: 808 944-2219.

RIN: 0648-BC87

81. • Emergency Rule to Establish Recreational Closure Authority Specific to Federal Waters Off Individual States for the Red Snapper Component of the Reef Fish Fishery

Legal Authority: 16 U.S.C. 1801 et seq.

Abstract: Prior to the June 1 opening each year, NMFS determines the recreational red snapper fishing season length based on landings projections, which evaluate catch rates and the average weight of red snapper landed in previous years. Those projections also account for any excess fish that will be harvested in waters of states that adopt inconsistent regulations. This means that the recreational season in the entire Gulf of Mexico EEZ has been shortened to account for harvest occurring in state waters when federal waters are closed. To reduce the impact of inconsistent state regulations on all Gulf Coast states and provide for a more equitable allocation of red snapper harvest, the Council requested that NMFS implement an emergency rule that provides the authority to shorten the federal season only off those states that adopt inconsistent regulations. The federal seasons off those states would be shortened by the amount needed to correct for the additional harvest that would occur as a result of their regulations.

Timetable:

Action | Date | FR Cite
Final Rule | 03/25/13 | 78 FR 17882
Final Action—Extension | 09/00/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BD00

82. Revision of Hawaiian Monk Seal Critical Habitat

Legal Authority: 16 U.S.C. 1533

Abstract: NOAA Fisheries is developing a final rule to designate critical habitat for the Hawaiian monk seal in the main and Northwestern Hawaiian Islands. In response to a 2008 petition from the Center for Biological Diversity, Kahea, and the Ocean Conservancy to revise Hawaiian monk seal critical habitat, NOAA Fisheries published a proposed rule in June 2011 to revise Hawaiian monk seal critical habitat by adding critical habitat in the main Hawaiian Islands and extending critical habitat in the Northwestern Hawaiian Islands. Proposed critical habitat includes both marine and terrestrial habitats (e.g., foraging areas to 500 meter depth, pupping beaches, etc.). To address public comments on the proposed rule, NOAA Fisheries is augmenting its prior economic analysis to better describe the anticipated costs of the designation. NOAA Fisheries is analyzing new tracking data to assess monk seal habitat use in the main Hawaiian Islands. That may lead to some reduction in foraging area critical habitat for the main Hawaiian Islands to better reflect where preferred foraging features may be found.

Timetable:

Action | Date | FR Cite
NPRM | 06/02/11 | 76 FR 32026
Notice of Public Meetings | 07/14/11 | 76 FR 41446
Other | 06/25/12 | 77 FR 37867
Final Action | 07/00/13 |

Regulatory Flexibility Analysis Required: Yes.

Agency Contact: Helen Golde, Department of Commerce, National Oceanic and Atmospheric Administration, Marine Sanctuaries Division, 1305 East-West Highway, Silver Spring, MD 20910, Phone: 301 427-8400, Email: helen.golde@noaa.gov.

RIN: 0648-BA81

83. Eliminate the Expiration Date Contained in the Final Rule to Reduce the Threat of Ship Collisions With North Atlantic Right Whales

Legal Authority: 16 U.S.C. 1361 et seq.; 16 U.S.C. 1531 et seq.

Abstract: In 2008 NMFS promulgated a regulation designed to reduce the likelihood of deaths and serious injuries to endangered North Atlantic right whales that result from collisions with ships. The rule implemented speed restrictions of no more than 10 knots applying to all vessels 65 ft long or greater in certain locations and times of the year along the east coast of the United States. To resolve controversy over the rule, NMFS agreed to incorporate a sunset clause under which the rule would expire on December 9, 2013. NMFS has been monitoring compliance and effectiveness of the rule and has detected a considerable increase in the rate of compliance with the rule in the third year. There are only approximately 400 remaining North Atlantic right whales and the rate of encounter is relatively low, so detecting a trend in the rate of ship-strike mortalities will require several additional years of data, and soliciting comment on an alternative to extend the sunset provision. NMFS is proposing a rule that would remove the sunset provision and allow the rule to remain in place. Based on an evaluation of recent information, NMFS estimated economic impacts to be considerably less than was originally thought.

Timetable:

Action | Date | FR Cite
NPRM | 06/06/13 | 78 FR 34024
Final Action | 11/00/13 |

Regulatory Flexibility Analysis Required: Yes.

Agency Contact: Helen Golde, Department of Commerce, National Oceanic and Atmospheric Administration, Marine Sanctuaries Division, 1305 East-West Highway, Silver Spring, MD 20910, Phone: 301 427-8400, Email: helen.golde@noaa.gov.

RIN: 0648-BB20

84. Endangered and Threatened Species: Designation of Critical Habitat for Threatened Lower Columbia River Coho Salmon and Puget Sound Steelhead

Legal Authority: 16 U.S.C. 1531-1544

Abstract: This action will designate critical habitat for lower Columbia River coho salmon and Puget Sound steelhead, currently listed as threatened species under the Endangered Species Act. The specific areas proposed for designation in for lower Columbia River coho include approximately 2,288 mi (3,681 km) of freshwater and estuarine habitat in Oregon and Washington. The specific areas proposed for designation for Puget Sound steelhead include approximately 1,880 mi (3,026 km) of freshwater and estuarine habitat in Puget Sound, Washington.

Timetable:

Action | Date | FR Cite
NPRM | 01/14/13 | 78 FR 2725
Final Action | 12/00/13 |

Regulatory Flexibility Analysis Required: Yes.

Agency Contact: Helen Golde, Department of Commerce, National Oceanic and Atmospheric Administration, Marine Sanctuaries Division, 1305 East-West Highway, Silver Spring, MD 20910, Phone: 301 427-8400, Email: helen.golde@noaa.gov.

RIN: 0648-BB30

85. • Framework Adjustment 24 to the Atlantic Sea Scallop FMP and Framework Adjustment 49 to the Northeast Multispecies FMP

Legal Authority: 16 U.S.C. 1801 et seq.

Abstract: Framework 24 to the Atlantic Sea Scallop FMP will set management measures for the scallop fishery for the 2013 fishing year, including the annual catch limits for the limited access and limited access general category fleets, as well as days-at-sea allocations and sea scallop access area trip allocations. In addition, it adjusts the Georges Bank scallop access area closure schedule, refines the management of yellowtail flounder accountability measures in the scallop fishery, makes adjustments to the industry-funded observer program, and provides more flexibility in the management of the individual fishing quota program. Because Framework 24 includes an alternative to modify the Georges Bank scallop access area seasonal restrictions, this action is also a joint framework with the Northeast Multispecies Fishery Management Plan (Framework 49).

Timetable:

Action | Date | FR Cite
NPRM | 03/15/13 | 78 FR 16573
Final Action | 07/00/13 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BC81

DEPARTMENT OF COMMERCE (DOC)

National Oceanic and Atmospheric Administration (NOAA)

Long-Term Actions

National Marine Fisheries Service

86. Magnuson-Stevens Fishery Conservation and Management Reauthorization Act (MSRA) Environmental Review Procedure

Legal Authority: 16 U.S.C. 1801 et seq.

Abstract: This rule revises and updates the NMFS procedures for complying with NEPA in the context of fishery management actions developed pursuant to MSRA.

Timetable:

Action | Date | FR Cite
NPRM | 05/14/08 | 73 FR 27998
NPRM Comment Period End | 06/13/08 |
Next Stage Undetermined | 07/00/14 |

Regulatory Flexibility Analysis Required: Yes.

Agency Contact: Steve Leathery, Phone: 301 713-2239, Email: steve.leathery@noaa.gov.

RIN: 0648-AV53

87. Marine Mammal Protection Act Stranding Regulation Revisions

Legal Authority: 16 U.S.C. 1379; 16 U.S.C. 1382; 16 U.S.C. 1421

Abstract: NMFS intends to clarify the requirements and procedures for responding to stranded marine mammals and for determining the disposition of rehabilitated marine mammals, which includes the procedures for the placement of non-releasable animals and for authorizing the retention of releasable rehabilitated marine mammals for scientific research, enhancement, or public display.

Timetable:

Action | Date | FR Cite
ANPRM | 01/31/08 | 73 FR 5786
ANPRM | 01/31/08 | 73 FR 5786
ANPRM Comment Period Extended | 03/28/08 | 73 FR 16617
NPRM | 07/00/14 |

Regulatory Flexibility Analysis Required: Yes.

Agency Contact: Helen Golde, Phone: 301 427-8400, Email: helen.golde@noaa.gov.

RIN: 0648-AW22

88. Amendment 22 to the Fishery Management Plan for the Snapper Grouper Fishery of the South Atlantic Region

Legal Authority: 16 U.S.C. 1801 et seq.

Abstract: The red snapper stock in the South Atlantic was assessed through the Southeast, Data, Assessment, and Review process in 2008 and 2010. The assessments indicate that the stock is experiencing overfishing and is overfished. As a result of the 2008 assessment, fishing for red snapper has been prohibited in federal waters off the south Atlantic states since January 4, 2010. In Amendment 22, the National Marine Fisheries Service and the South Atlantic Fishery Management Council are considering alternatives to change the current harvest restrictions on red snapper as the stock increases in biomass. Examples of measures under consideration include the implementation of red snapper trip limits, bag limits, a catch share program, tag program, temporal and spatial closures including those to protect spawning stocks, and gear prohibitions.

Timetable:

Action | Date | FR Cite
Notice of Intent | 01/03/11 | 76 FR 101
Notice of Intent Comment Period End | 02/14/11 |
NPRM | 07/00/14 |

Regulatory Flexibility Analysis Required: Yes.

Agency Contact: Roy E. Crabtree, Phone: 727 824-5305, Fax: 727 824-5308, Email: roy.crabtree@noaa.gov.

RIN: 0648-BA53

DEPARTMENT OF COMMERCE (DOC)

National Oceanic and Atmospheric Administration (NOAA)

Completed Actions

89. Amendment 3 to the Spiny Dogfish Fishery Management Plan

Legal Authority: 16 U.S.C. 1801

Abstract: The New England and Mid-Atlantic Fishery Management Councils are preparing, in cooperation with NMFS, and Environmental Impact Statement in accordance with the National Environmental Policy Act to assess potential effects on the human environment of alternative measures to address several issues regarding the Spiny Dogfish Fishery Management Plan. Issues that may be addressed include: Initiating a Research-Set-Aside provision; specifying the spiny dogfish quota and/or possession limits by sex; adding a recreational fishery to the Fishery Management Plan; identifying commercial quota allocation alternatives; and establishing a limited access fishery.

Timetable:

Action | Date | FR Cite
Notice of Intent | 08/05/09 | 74 FR 39063
Notice of Intent to prepare an Environmental Impact Statement | 08/05/09 | 74 FR 30963
Comment Period End | 09/04/09 |
Notice of Intent | 05/13/10 | 75 FR 26920

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-AY12

90. Fisheries in the Western Pacific; Pelagic Fisheries; Purse Seine Fishing With Fish Aggregation Devices

Legal Authority: 16 U.S.C. 1801 et seq.

Abstract: The Western Pacific Council is amending the Pelagics Fishery Ecosystem Plan (FEP) to (1) define fish aggregating devices (FADs) as purposefully-deployed or instrumented floating objects; (2) require FADs to be registered; and (3) prohibit purse seine fishing using FADs in the US EEZ of the western Pacific. The objective of this action is to appropriately balance the needs and concerns of the western Pacific pelagic fishing fleets and associated fishing communities with the conservation of tuna stocks in the western Pacific.

Timetable:

Action | Date | FR Cite
Withdrawn | 04/08/13 |

Regulatory Flexibility Analysis Required: Yes.

Agency Contact: Alvin Katekaru, Assistant Regional Administrator, Sustainable Fisheries, Department of Commerce, National Oceanic and Atmospheric Administration, 1601 Kapiolani Boulevard, Honolulu, HI 96814, Phone: 808 944-2207, Fax: 808 973-2941, Email: alvin.katekaru@noaa.gov.

RIN: 0648-AY36

91. Amendment to Recover the Administrative Costs of Processing Permit Applications

Legal Authority: 16 U.S.C. 1801 et seq.; 16 U.S.C. 1853; 16 U.S.C. 1854; 16 U.S.C. 3631 et seq.; 16 U.S.C. 773 et seq.; Pub. L. 108-447

Abstract: This action amends the fishery management plans of the North Pacific Fishery Management Council and revises federal regulations at 50 CFR 679 to recover the administrative costs of processing applications for permits required under those plans.

Timetable:

Action | Date | FR Cite
Withdrawn | 04/08/13 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-AY81

92. Amendment 21 to the Snapper-Grouper Fishery Management Plan of the South Atlantic Region

Legal Authority: 16 U.S.C. 1801 et seq.

Abstract: Amendment 21 examines measures to limit participation in the snapper grouper fishery including endorsements, trip limits, and catch share programs.

Timetable:

Action | Date | FR Cite
Notice | 11/03/11 | 76 FR 100
Withdrawn | 04/08/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BA59

93. Amendment 6 to the Golden Crab Fishery Management Plan of the South Atlantic

Legal Authority: 16 U.S.C. 1801 et seq.

Abstract: Golden Crab Amendment 6 examines alternatives for a catch share program to limit participation in the golden crab fishery.

Timetable:

Action | Date | FR Cite
Notice of Intent | 01/03/11 | 76 FR 98
Withdrawn | 04/08/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BA60

94. Atlantic Highly Migratory Species; Vessel Monitoring Systems

Legal Authority: 16 U.S.C. 1801 et seq.; 16 U.S.C. 971 et seq.

Abstract: The National Marine Fisheries Service (NMFS) will require replacement of currently required Mobile Transmitting Unit (MTU) Vessel Monitoring System (VMS) units with Enhanced Mobile Transmitting Unit (E-MTU) VMS units in Atlantic Highly Migratory Species (HMS) fisheries, implement a declaration system that requires vessels to declare target fishery and gear type(s) possessed on board, and require that a qualified marine electrician install all E-MTU VMS units. This rulemaking removes dated MTU VMS units from service in Atlantic HMS fisheries, makes Atlantic HMS VMS requirements consistent with other VMS monitored Atlantic fisheries, provides the National Oceanic and Atmospheric Administration Office of Law Enforcement (NMFS) with enhanced communication with HMS vessels at sea, and could increase the level of safety at sea for HMS fishery participants. This rule affects all HMS pelagic longline (PLL), bottom longline (BLL), and shark gillnet fishermen who are currently required to have VMS onboard their vessels.

Timetable:

Action | Date | FR Cite
NPRM | 06/21/11 | 76 FR 36071
NPRM Correction | 06/29/11 | 76 FR 38107
Notice of Additional Public Meetings | 07/01/11 | 76 FR 38598
NPRM Comment Period End | 08/01/11 |
Final Rule | 12/02/11 | 76 FR 75492
Final Action | 10/11/12 | 77 FR 61727

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, Email: margo.schulze-haugen@noaa.gov.

RIN: 0648-BA64

95. Atlantic Highly Migratory Species Electronic Dealer Reporting Requirements

Legal Authority: 16 U.S.C. 1801 et seq.

Abstract: This rule implements an electronic dealer reporting system for dealers that handle sharks, swordfish, and bigeye, albacore, yellowfin, and skipjack tunas. This rule does not alter dealer reporting for bluefin tuna. The rule requires dealers to report electronically on a weekly basis. Dealers who currently use other electronic reporting methods (e.g., SAFIS in the Northeast) may continue using those other systems.

Timetable:

Action | Date | FR Cite
NPRM | 06/28/11 | 76 FR 37750
Public Workshop Notice | 06/29/12 | 77 FR 38722
Public Workshop Notice | 07/30/12 | 77 FR 44592
Final Rule | 08/08/12 | 77 FR 47303
Public Workshop Notice | 10/02/12 | 77 FR 60108
Final Action—Correction | 12/07/12 | 77 FR 72993

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, Email: margo.schulze-haugen@noaa.gov.

RIN: 0648-BA75

96. To Establish a Voluntary Fishing Capacity Reduction Program in the Longline Catcher Processor Subsector of the Bering Sea and Aleutian Islands Management Area Non-Pollock Groundfish Fishery

Legal Authority: 16 U.S.C. 1279 ; 46 U.S.C. 1279; Pub. L. 108-199; Pub. L. 108-447

Abstract: This regulation implements a second fishing capacity reduction program (also commonly known as buyback) and an industry fee system to repay a $2.7 million loan for a single latent permit within the Longline Catcher Processor Subsector of the Bering Sea and Aleutian Islands non-pollock groundfish fishery (Reduction Fishery). The purpose of this action is to permanently reduce the greatest amount of fishing capacity at the least cost.

Timetable:

Action | Date | FR Cite
NPRM | 07/30/12 | 77 FR 44572
Final Action | 09/27/12 | 77 FR 58775

Regulatory Flexibility Analysis Required: Yes.

Agency Contact: Gary C. Reisner, Director, Office of Management and Budget, Department of Commerce, National Oceanic and Atmospheric Administration, 1315 East-West Highway, Silver Spring, MD 20910, Phone: 301 713-2259, Fax: 301 713-1464, Email: gary.reisner@noaa.gov.

RIN: 0648-BB06

97. Framework Adjustment 47 to the Northeast Multispecies Fishery Management Plan

Legal Authority: 16 U.S.C. 1801 et seq.

Abstract: The proposed action would implement Framework Adjustment 47 to the Northeast Multispecies Fishery Management Plan (FW 47). FW 47 would set specifications for groundfish stocks for fishing years (FYs) 2012 through 2014. This action would also adopt the FY 2012 total allowable catches (TACs) for the U.S./Canada Management Area consistent with the U.S./Canada Resource Understanding. As a result of the International Fisheries Agreement Clarification Act, draft measures of this action also include revising the rebuilding program for Georges Bank (GB) yellowtail flounder. This action would also revise the status determination criteria for the three winter flounder stocks and Gulf of Maine (GOM) cod based on the updated assessments for each of the stocks. Other draft measures includes modification of management measures for Southern New England/Mid-Atlantic winter flounder, modification of accountability measures for five stocks, modification of restrictions on the catch of yellowtail flounder by the scallop fishery in the GB access areas, and adjustments to the administration of the scallop fishery yellowtail flounder catch limits.

Timetable:

Action | Date | FR Cite
Proposed Rule | 03/27/12 | 77 FR 18176
Final Rule | 05/02/12 | 77 FR 26104
Interim Final Rule | 06/25/12 | 77 FR 37816

Regulatory Flexibility Analysis Required: Yes.

Agency Contact: Daniel Morris, Acting Northeast Regional Administrator, Department of Commerce, National Oceanic and Atmospheric Administration, 55 Great Republic Drive, Gloucester, MA 01930, Phone: 978 281-9311, Email: daniel.morris@noaa.gov.

RIN: 0648-BB62

98. Gulf of Mexico Reef Fish Amendment 34: Commercial Reef Fish Permit Requirements and Crew Size on Dual-Permitted Vessels

Legal Authority: 16 U.S.C. 1801 et seq.

Abstract: Reef Fish Amendment 34 eliminates the earned income qualification requirement for the renewal of Gulf of Mexico commercial reef fish permits and increases the maximum crew size for dual-permitted vessels. The existing earned income requirement in the reef fish fishery is believed to be easily circumvented, and no longer necessary. Maximum crew size regulations stipulate that dual-permitted vessels without a certificate of inspection are limited to a three person crew when fishing commercially. The increase to four crew members most directly benefits commercial spear fishermen. This allows two persons to remain aboard while there are two divers in the water, thereby increasing the safety of commercial diving operations.

Timetable:

Action | Date | FR Cite
Notice of Availability | 07/10/12 | 77 FR 40561
NPRM | 07/18/12 | 77 FR 42251
Final Action | 10/19/12 | 77 FR 64237

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB72

99. 2012 Gulf of Mexico Gray Triggerfish Annual Catch Limits and Annual Catch Targets for the Commercial and Recreational Sectors; and In-Season Accountability Measures for the Recreational Sector

Legal Authority: 16 U.S.C. 1801

Abstract: This interim rule adjusts recreational and commercial quotas for the 2012 season. In addition, the rule establishes an accountability measure for the recreational sector based on projections of when the adjusted recreational quota will be met. The intended effect of the rule is to maintain the rebuilding plan targets for the overfished gray triggerfish and meet the regulatory requirements established in Amendment 30A to the Fishery Management Plan.

Timetable:

Action | Date | FR Cite
Final Rule | 05/14/12 | 77 FR 28308
Final Action | 11/09/12 | 77 FR 67303

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB90

100. Amendment 35 to the Reef Fish Fishery Management Plan Addressing Changes to the Greater Amberjack Rebuilding Plan and Adjustments to the Stock Annual Catch Limit in the Gulf of Mexico

Legal Authority: 16 U.S.C. 1801 et seq.

Abstract: This rulemaking adjusts the greater amberjack rebuilding plan proposed by the Gulf of Mexico Fishery Management Council through Amendment 35 to the Fishery Management Plan for Reef Fish Resources of the Gulf of Mexico in response to new scientific information. Adjustments include a revised annual catch limit, accountability measures, and other regulations designed to rebuild the greater amberjack stock in the Gulf of Mexico.

Timetable:

Action | Date | FR Cite
Notice of Availability | 07/03/12 | 77 FR 39460
NPRM | 07/19/12 | 77 FR 42476
Final Action | 11/13/12 | 77 FR 67574

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB97

101. Framework Adjustment 6 to the Atlantic Mackerel, Squid and Butterfish Fishery Management Plan

Legal Authority: 16 U.S.C. 1801 et seq.

Abstract: This framework adjustment clarifies the Mid-Atlantic Fishery Management Councils (Council) risk policy, which is used by the Scientific and Statistical Committee (SSC) in conjunction with acceptable biological catch (ABC) control rules. The risk policy ensures that the Councils preferred tolerance for risk of overfishing (40 percent or lower) is addressed in the ABC development and recommendation process. The regulations that implement the Councils risk policy went into effect on October 31, 2011, as part of the Councils Omnibus Amendment to implement annual catch limits and accountability measures. One component of the risk policy states that, “If an overfishing limit (OFL) cannot be determined from the stock assessment, or if a proxy is not provided by the SSC during the ABC recommendation process, ABC levels may not be increased until such time that an OFL has been identified. This was designed to prevent catch levels from being increased when there are no criteria available to determine if overfishing will occur in the upcoming fishing year. Following one of the first applications of the risk policy for the 2012 fishing year (2012 butterfish specifications), the Council found that there are limited circumstances in which the SSC may have the scientific justification for recommending that the ABC be increased for stocks without an OFL without resulting in an unacceptably high risk of overfishing. This framework alters the risk policy by outlining the specific circumstances under which the SSC may recommend an ABC increase in the absence of an OFL.

Timetable:

Action | Date | FR Cite
NPRM | 06/28/12 | 77 FR 38566
Final Action | 08/27/12 | 77 FR 51853

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BB99

102. Regulatory Amendment 12 to the Fishery Management Plan for the Snapper Grouper Fishery in the South Atlantic

Legal Authority: 16 U.S.C. 1801 et seq.

Abstract: This rulemaking increases the annual catch limit (ACL) and revises recreational accountability measures for the South Atlantic golden tilefish based on a new stock assessment. The assessment, conducted in 2011 with data through 2010, concluded golden tilefish are not overfished and overfishing is not occurring.

Timetable:

Action | Date | FR Cite
NPRM | 07/20/12 | 77 FR 42688
NPRM Comment Period End | 08/20/12 |
Final Action | 10/09/12 | 77 FR 61295

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC03

103. Framework Adjustment 5 to the Atlantic Mackerel, Squid, and Butterfish Fishery Management Plan

Legal Authority: 16 U.S.C. 1801 et seq.

Abstract: This framework adjustment expands the list of marine surveyors allowed to complete a fish hold volume certification for vessels issued a Tier 1 or Tier 2 limited access mackerel permit. Amendment 11 to the Atlantic mackerel, squid, and butterfish fishery management plan required that vessels issued a Tier 1 or 2 limited access mackerel permit submit a fish hold volume certification to NMFS by December 31, 2012. Currently, individuals credentialed as marine surveyors by the Society of Marine Surveyors or the National Association of Marine Surveyors are allowed to complete fish hold measurements for such vessels, as are vessels that are sealed by the Maine State Sealer of Weights and Measures. Based on industry feedback, there are additional marine professionals who are also qualified to conduct vessel hold volume certifications. This action would allow vessels to submit hold certifications provided by other marine surveyors who are equally qualified to perform such measurements.

Timetable:

Action | Date | FR Cite
NPRM | 09/21/12 | 77 FR 58507
Final Action | 12/04/12 | 77 FR 71720

Regulatory Flexibility Analysis Required: Yes.

Agency Contact: Daniel Morris, Acting Northeast Regional Administrator, Department of Commerce, National Oceanic and Atmospheric Administration, 55 Great Republic Drive, Gloucester, MA 01930, Phone: 978 281-9311, Email: daniel.morris@noaa.gov.

RIN: 0648-BC08

104. Development of Island-Specific Fishery Management Plans (FMPS) in the Caribbean: Transition From Species-Specific FMPS to Island-Specific FMPS

Legal Authority: 16 U.S.C. 1801 et seq.

Abstract: NOAA Fisheries and the Caribbean Fishery Management Council will develop island-specific FMPs to account for differences among the U.S. Caribbean Islands of Puerto Rico and the U.S. Virgin Islands with respect to culture, markets, gear, and seafood preferences. The development of these customized FMPs will recognize the unique attributes of each of the U.S. Caribbean Islands.

Timetable:

Action | Date | FR Cite
Withdrawn | 04/08/13 |

Regulatory Flexibility Analysis Required: Yes.

Agency Contact: Bill Arnold, Department of Commerce, National Oceanic and Atmospheric Administration, 263 13th Avenue South, Suite 113, St. Petersburg, FL 33701, Phone: 727 824-5305, Email: bill.arnold@noaa.gov.

RIN: 0648-BC17

105. Comprehensive Ecosystem Based Amendment 3

Legal Authority: 16 U.S.C. 1801 et seq.

Abstract: Actions in Comprehensive Ecosystem-Based Amendment 3 (CE-BA 3) address improvements in data collection methods in the South Atlantic. Measures include improvements in data collection methods in commercial, for-hire, and recreational fisheries.

Timetable:

Action | Date | FR Cite
Notice of Intent | 05/23/12 | 77 FR 30506
Withdrawn | 04/08/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC22

106. Fisheries Off West Coast States; West Coast Salmon Fisheries; Amendment 17

Legal Authority: 16 U.S.C. 1801 et seq.

Abstract: The action implements Amendment 17 to the Pacific Coast Salmon Fishery Management Plan (FMP), which revises the status determination criteria (SDC) for Quillayute fall coho, and revise the fishery management plan to correct typographical errors, update reporting measures to reflect new technology, update or remove other obsolete or unnecessary language, and remove a public comment period following a final rule. The purpose of the amendment is to resolve the partial disapproval of Amendment 16, regarding the SDC for Quillayute fall coho, and update or correct other minor issues.

Timetable:

Action | Date | FR Cite
Notice | 11/09/12 | 77 FR 67327
NPRM | 12/19/12 | 77 FR 75101
Final Action | 02/14/13 | 78 FR 10557

Regulatory Flexibility Analysis Required: Yes.

Agency Contact: Barry Thom, Regional Administrator, Northwest Region, NMFS, Department of Commerce, National Oceanic and Atmospheric Administration, Building 1, 7600 Sand Point Way NE., Seattle, WA 48115-0070, Phone: 206 526-6150, Fax: 206 526-6426, Email: barry.thom@noaa.gov.

RIN: 0648-BC28

107. Amendment 38 to the Fishery Management Plan for Reef Fish Resources In the Gulf of Mexico

Legal Authority: 16 U.S.C. 1801 et seq.

Abstract: This amendment modifies the post-season accountability measure for shallow-water grouper that shortens the recreational season for all shallow-water grouper in the year following a year in which the annual catch limit (ACL) for gag or red grouper is exceeded. The modified accountability measure would shorten the recreational season only for the species that exceeded its ACL. This amendment also changes the trigger for accountability measures to be based on comparison to the current year landings, rather than a three-year running average. Last, this amendment revises the framework procedure to allow for changes to accountability measures and to update language related to Council advisory panels and committees.

Timetable:

Action | Date | FR Cite
Notice | 10/12/12 | 77 FR 62209
NPRM | 10/19/12 | 77 FR 64300
Final Action | 01/30/13 | 78 FR 6218

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC37

108. Amendment 4 to the U.S. Caribbean Coral FMP: Seagrass Management

Legal Authority: 16 U.S.C. 1801 et seq.

Abstract: The purpose of this plan amendment is to address management of seagrasses in the U.S. Caribbean. Four species and one species group of seagrasses are included in the Coral FMP. The Magnuson-Stevens Fishery Conservation and Management Act requires FMPs to contain mechanisms for specifying annual catch limits (ACLs) for stocks in the fishery, including measures to ensure accountability (AMs). The 2011 Comprehensive ACL Amendment established ACLs and AMs for species within the Coral FMP, but inadvertently did not set ACLs for the seagrasses included in the management plan. The Caribbean Fishery Management Council is now developing Amendment 4 to address this oversight. There is currently no commercial or recreational fishing for seagrasses in the U.S. Caribbean and seagrasses are identified as essential fish habitat in all of the Councils FMPs. Thus, in this Amendment, the Council is considering whether to set an ACL for seagrasses, designate seagrasses as ecosystem component species, or remove seagrasses from the FMP.

Timetable:

Action | Date | FR Cite
Notice | 02/25/13 | 78 FR 12703
NPRM | 03/06/13 | 78 FR 14503
Final Action | 06/04/13 | 78 FR 33255

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC38

109. 2013 Atlantic Mackerel, Squid, and Butterfish Fishery Specifications and Management Measures

Legal Authority: 16 U.S.C. 1801 et seq.

Abstract: This action establishes specifications and management measures for the 2013 fishing year for Atlantic mackerel, squid, and butterfish (MSB). Specifications for longfin squid and Illex squid were set for 3 years in 2012 (2012-2014) and therefore, will not be included in this years specification rulemaking. This action makes regulatory changes to the longfin squid fishery including: Changing the longfin squid pre-trip observer notification requirement from 72 to 48 hours, changing the closure threshold on April 15 of each year from 80 to 90%, and changing the closure threshold on August 15 of each year from 90 to 95% to avoid 1-2 week closures at the end of a Trimester. The Atlantic mackerel specifications are proposed to remain unchanged, and would be specified for 3 years (2013-2015). Compared to 2012, this action increases the butterfish quota by 236%, and increase the butterfish mortality cap by 184%. Due to the increase in the proposed butterfish quota, this action also proposed a variety of options for controlling effort in the directed butterfish fishery including changes to trip limits, the closure threshold for the directed fishery, and post-closure trip limits.

Timetable:

Action | Date | FR Cite
NPRM | 11/19/12 | 77 FR 69426
Final Action | 01/16/13 | 78 FR 3346

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BC40

110. Generic Amendment 4 to Fishery Management Plans in the Gulf of Mexico: Fixed Petroleum Platforms and Artificial Reefs as Essential Fish Habitat

Legal Authority: 16 U.S.C. 1801 et seq.

Abstract: Potentially significant numbers of individuals of managed reef fish species are known to associate with artificial substrates and petroleum-producing platforms. Fishers, both recreational and commercial, have come to utilize these platforms as sites to catch these fish. Some are of the opinion that the habitat provided by these structures may be necessary to support viable fish populations and associated fisheries. Through Generic Amendment 4, the Gulf of Mexico Fishery Management Council is considering alternatives for artificial substrates and petroleum platforms to be considered as Essential Fish Habitat. As part of their deliberations, the Council is evaluating alternative mechanisms that could facilitate the reefing of such structures to be consistent with the national artificial reef plan.

Timetable:

Action | Date | FR Cite
Withdrawn | 04/08/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC47

111. Interim Final Rule for 2012 Butterfish Specifications

Legal Authority: 16 U.S.C. 1801 et seq.

Abstract: The Mid-Atlantic Fishery Management Council (Council) requested that its Scientific and Statistical Committee (SSC) reconsider its 2012 butterfish ABC recommendation in light of its higher (8,400 mt) butterfish acceptable biological catch (ABC) recommendation for 2013. The SSC revised their 2012 butterfish ABC recommendation to 4,200 mt and noted that the additional mortality at the end of the 2012 fishing year should not result in overfishing of the butterfish resource. Accordingly, the Council recommended an increase of the butterfish ABC to 4,200 mt for the remainder of the 2012 fishing year, a decrease of the butterfish quota to 872 mt, and an increase of the butterfish mortality cap to 3,165 mt.

Timetable:

Action | Date | FR Cite
Interim Final Rule | 11/09/12 | 77 FR 67305

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BC57

112. Emergency Rule for a Temporary Action to Adjust the Commercial ACL for Yellowtail Snapper in the South Atlantic Snapper-Grouper Fishery

Legal Authority: 16 U.S.C. 1801 et seq.

Abstract: NOAA Fisheries intends to publish a temporary rule for an emergency action to adjust the commercial annual catch limit (ACL) for yellowtail snapper in the South Atlantic for 2012. A new stock assessment for yellowtail snapper suggests the ACL could be increased. Based on this new information, the South Atlantic Fishery Management Council (Council) requested that NOAA Fisheries implement a temporary rule for an emergency action to adjust the yellowtail snapper commercial ACL. Doing so will reduce the probability of triggering a closure of the commercial harvest of yellowtail snapper and thus prevent unnecessary adverse socio-economic impacts to the fishery participants. The Council is developing a more permanent implementation of the new yellowtail snapper ACL in the subsequent Regulatory Amendment 15 to FMP for the Snapper-Grouper Fishery of the South Atlantic.

Timetable:

Action | Date | FR Cite
Interim Final Rule | 11/07/12 | 77 FR 66744
Withdrawn | 04/08/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC59

113. Emergency Rule To Set the 2012 Annual Catch Limit for the Gulf of Mexico Vermilion Snapper Stock

Legal Authority: 16 U.S.C. 1801 et seq.

Abstract: The current vermilion snapper annual catch limit (ACL) is 3.42 million pounds (mp). A 2011 stock assessment indicates vermilion snapper are not overfished or undergoing overfishing. Based on the assessment, the Gulf of Mexico Fishery Management Council's (Council) Scientific and Statistical Committee (SSC) has recommended an acceptable biological catch level much higher than the current ACL (>1 mp). The Gulf of Mexico Fishery Management Council (Council) requested NOAA Fisheries Service to promulgate an emergency rule to increase the vermilion snapper ACL. Landing projections for 2012 indicate the current ACL may be caught before the end of the 2012 fishing year (December 31). If the ACL is met, accountability measures would close vermilion snapper fishing for the remainder of the 2012 fishing year. Therefore, the Council asked for an emergency rule to increase the ACL to 4.19 mp. This new limit is consistent with the management advice from the Council's SSC.

Timetable:

Action | Date | FR Cite
Withdrawn | 04/08/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC65

114. Reduce Sea Turtle Bycatch in Atlantic Trawl Fisheries

Legal Authority: 16 U.S.C. 1531 et seq.

Abstract: NMFS is initiating a rulemaking action to reduce injury and mortality to endangered and threatened sea turtles resulting from incidental take, or bycatch, in trawl fisheries in the Atlantic waters. NMFS will address the size of the turtle excluder device (TED) escape opening currently required in the summer flounder trawl fishery, the definition of a summer flounder trawler, and the use of TEDs in this fishery. This action will address the use of TEDs in the croaker and weakfish flynet, whelk, Atlantic sea scallop, and calico scallop trawl fisheries of the Atlantic Ocean, as well as new seasonal and temporal boundaries for TED requirements. In addition, this rule will address the definition of the Gulf Area applicable to the shrimp trawl fishery in the southeast Atlantic and Gulf of Mexico. The purpose of the rule is to aid in the protection and recovery of listed sea turtle populations by reducing mortality in trawl fisheries through the use of TEDs.

Timetable:

Action | Date | FR Cite
Withdrawn | 04/12/13 |

Regulatory Flexibility Analysis Required: Yes.

Agency Contact: Helen Golde, Department of Commerce, National Oceanic and Atmospheric Administration, Marine Sanctuaries Division, 1305 East-West Highway, Silver Spring, MD 20910, Phone: 301 427-8400, Email: helen.golde@noaa.gov.

RIN: 0648-AY61

115. False Killer Whale Take Reduction Plan

Legal Authority: 16 U.S.C. 1361 et seq.

Abstract: The False Killer Whale Take Reduction Plan (FKWTRP) is necessary because current serious injury and mortality rates of the Hawaii Pelagic stock of false killer whales incidental to the Category I Hawaii-based deep-set (tuna target) longline fishery and Category II Hawaii-based shallow-set (swordfish target) fishery are above the stock's potential biological removal (PBR) level, and therefore inconsistent with the short-term goal of the Marine Mammal Protection Act (MMPA). Additionally, serious injury and mortality rates of the Hawaii Insular stock and Palmyra Atoll stocks of false killer whales incidental to the Hawaii-based deep-set longline fishery are above insignificant levels approaching a zero mortality and serious injury rate, and therefore inconsistent with the long-term goal of the MMPA. The FKWTRP is intended to meet the statutory mandates and requirements of the MMPA through both regulatory and non-regulatory measures, and research and data collection priorities.

Timetable:

Action | Date | FR Cite
NPRM | 07/18/11 | 76 FR 42082
NPRM Comment Period Ends | 10/17/11 |
Final Action | 11/29/12 | 77 FR 71259

Regulatory Flexibility Analysis Required: Yes.

Agency Contact: Helen Golde, Department of Commerce, National Oceanic and Atmospheric Administration, Marine Sanctuaries Division, 1305 East-West Highway, Silver Spring, MD 20910, Phone: 301 427-8400, Email: helen.golde@noaa.gov.

RIN: 0648-BA30

116. Mandatory Use of Turtle Excluder Devices (TEDS) in Skimmer Trawls, Pusher-Head Trawls, and Wing Nets (Butterfly Trawls)

Legal Authority: 16 U.S.C. 1533.

Abstract: NMFS conducted an evaluation of the Southeastern U.S. shrimp fishery and produced a draft environmental impact statement (DEIS), as a result of elevated sea turtle strandings in the Northern Gulf of Mexico and additional information having been received indicating many of the strandings could be a result of fishery interactions. The DEIS identified a preferred alternative to withdraw alternative tow time restriction, which would require all vessels using skimmer trawls, pusher-head trawls, and wing nets (butterfly trawls) to use turtle excluder devices. The purpose of the proposed action is to aid in the protection and recovery of listed sea turtle populations by reducing incidental bycatch and mortality of sea turtles in the Southeastern U.S. shrimp fishery.

Timetable:

Action | Date | FR Cite
NPRM | 05/10/12 | 77 FR 27411
Proposed Rule Correction | 05/18/12 | 77 FR 29586
Miami Public Hearing | 06/22/12 | 77 FR 37647
Port Orange Public Hearing | 06/27/12 | 77 FR 38266
Withdrawn | 02/07/13 | 78 FR 9024

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC10

DEPARTMENT OF COMMERCE (DOC)

Patent and Trademark Office (PTO)

Completed Actions

117. Setting and Adjusting Patent Fees

Legal Authority: 35 U.S.C. 119; 35 U.S.C. 120; 35 U.S.C. 132(b); 35 U.S.C. 376; 35 U.S.C. 41; Pub. L. 109-383; Pub. L. 110-116; Pub. L. 110-137; Pub. L. 110-149; Pub. L. 110-161; Pub. L. 110-5; Pub. L. 110-92; Pub. L. 112-29

Abstract: The United States Patent and Trademark Office (Office) takes this action in accordance with the Leahy-Smith American Invents Act to set and adjust certain patent fee amounts to provide the Office with a sufficient amount of aggregate revenue to recover its aggregate cost of patent operations. This action also helps the Office implement a sustainable funding model, reduce the current patent application backlog, decrease patent pendency, improve patent quality, and upgrade the Office's patent business information technology capability and infrastructure.

Timetable:

Action | Date | FR Cite
NPRM | 09/06/12 | 77 FR 55028
NPRM Comment Period End | 11/05/12 |
Final Rule | 01/18/13 | 78 FR 4212
Final Rule Effective | 03/19/13 |

Regulatory Flexibility Analysis Required: Yes.

Agency Contact: Michelle Picard, Senior Advisor for Financial Management, Department of Commerce, Patent and Trademark Office, 600 Dulany Street, Alexandria, VA 22313, Phone: 571 272-6354, Fax: 571 273-6354, Email: michelle.picard@uspto.gov.

RIN: 0651-AC54

[FR Doc. 2013-17054 Filed 7-22-13; 8:45 am]

BILLING CODE 3510-12-P